NUCLEAR REGULATORY COMMISSION

10 CFR Parts 170 and 171

[NRC-2020-0031]

RIN 3150-AK44

Revision of Fee Schedules; Fee Recovery for Fiscal Year 2022

AGENCY: Nuclear Regulatory Commission.

ACTION: Proposed rule.

SUMMARY: The U.S. Nuclear Regulatory Commission (NRC) is proposing to amend the licensing, inspection, special project, and annual fees charged to its applicants and licensees. These proposed amendments are necessary to implement the Nuclear Energy Innovation and Modernization Act, which requires the NRC to recover, to the maximum extent practicable, approximately 100 percent of its annual budget less certain amounts excluded from this fee-recovery requirement. In addition, on August 20, 2021, the Chief Financial Officer granted a public interest exemption from the provisions in the fiscal year 2021 final fee rule that required fees for import and export licensing actions. Therefore, this proposed rule would not assess fees for import and export licensing activities in fiscal year 2022.

DATES: Submit comments by March 25, 2022. Comments received after this date will be considered if it is practical to do so, but the NRC is only able to ensure consideration for comments received before this date. Because the Nuclear Energy Innovation and Modernization Act requires the NRC to collect fees for fiscal year 2022 by September 30, 2022, the NRC must finalize any revisions to its fee schedules promptly, and thus is unable to grant any extension request of the comment period.

ADDRESSES: You may submit comments by any of the following methods (unless this document describes a different method for submitting comments on a specific subject); however, the NRC encourages electronic comment submission through the Federal rulemaking website:

• Federal rulemaking Website: Go to https://www.regulations.gov and search for Docket ID NRC-2020-0031. Address questions about NRC dockets to Dawn Forder; telephone: 301-415-3407; email: Dawn.Forder@nrc.gov. For technical questions, contact the individual listed in the FOR FURTHER INFORMATION CONTACT section of this proposed rule.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Anthony Rossi, Office of the Chief Financial Officer, U.S. Nuclear Regulatory Commission, Washington, DC 20555-0001, telephone: 301-415-7341; email: Anthony.Rossi@nrc.gov.

SUPPLEMENTARY INFORMATION:

Table of Contents

I. Obtaining Information and Submitting Comments

II. Background; Statutory Authority

III. Discussion

IV. Regulatory Flexibility Certification

V. Regulatory Analysis

VI. Backfitting and Issue Finality

VII. Plain Writing

VIII. National Environmental Policy Act

IX. Paperwork Reduction Act

Public Protection Notification

X. Voluntary Consensus Standards

XI. Availability of Guidance

XII. Public Meeting

XIII. Availability of Documents

I. Obtaining Information and Submitting Comments

A. Obtaining Information

Please refer to Docket ID NRC-2020-0031 when contacting the NRC about the availability of information for this action. You may obtain publicly-available information related to this action by any of the following methods:

• Federal Rulemaking website: Go to https://www.regulations.gov and search for Docket ID NRC-2020-0031.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209 or 301-415-4737, or by email to pdr.resource@nrc.gov. For the convenience of the reader, the ADAMS accession numbers are provided in the “Availability of Documents” section of this document.

• NRC's PDR: You may examine and purchase copies of public documents, by appointment, at the NRC's PDR, Room P1 B35, One White Flint North, 11555 Rockville Pike, Rockville, Maryland 20852. To make an appointment to visit the PDR, please send an email to pdr.resource@nrc.gov or call 1-800-397-4209 or 301-415-4737, between 8:00 a.m. and 4:00 p.m. (ET), Monday through Friday, except Federal holidays.

B. Submitting Comments

The NRC encourages electronic submission of comments through the Federal rulemaking website (https://www.regulations.gov). Please include Docket ID NRC-2020-0031 in your comment.

The NRC cautions you not to include identifying or contact information that you do not want to be publicly disclosed in your comment. The NRC will post all comments at https://www.regulations.gov as well as enter the comments into ADAMS. The NRC does not routinely edit comments to remove identifying or contact information.

If you are requesting or aggregating comments from other persons for submission to the NRC, then you should inform those persons not to include identifying or contact information that they do not want to be publicly disclosed in their comments. Your request should state that the NRC does not routinely edit comments to remove such information before making the comments available to the public or entering the comments into ADAMS.

II. Background; Statutory Authority

The NRC's fee regulations are primarily governed by two laws: (1) The Independent Offices Appropriation Act, 1952 (IOAA) (31 U.S.C. 9701), and (2) the Nuclear Energy Innovation and Modernization Act (NEIMA) (42 U.S.C. 2215). The IOAA authorizes and encourages Federal agencies to recover, to the fullest extent possible, costs attributable to services provided to identifiable recipients. Under NEIMA, the NRC must recover, to the maximum extent practicable, approximately 100 percent of its annual budget, less the budget authority for excluded activities. Under Section 102(b)(1)(B) of NEIMA, “excluded activities” include any fee-relief activity as identified by the Commission, generic homeland security activities, waste incidental to reprocessing activities, Nuclear Waste Fund activities, advanced reactor regulatory infrastructure activities, Inspector General services for the Defense Nuclear Facilities Safety Board, research and development at universities in areas relevant to the NRC's mission, and a nuclear science and engineering grant program.

In fiscal year (FY) 2022, the fee-relief activities identified by the Commission are consistent with prior fee rules and include Agreement State oversight, regulatory support to Agreement States, medical isotope production infrastructure, fee exemptions for non-profit educational institutions, costs not recovered from small entities under § 171.16(c) of title 10 of the Code of Federal Regulations (10 CFR), generic decommissioning/reclamation activities, the NRC's uranium recovery program and unregistered general licenses, potential U.S. Department of Defense Program Memorandum of Understanding activities (Military Radium-226), and non-military radium sites. In addition, the resources for import and export licensing are identified as a fee-relief activity to be excluded from the fee-recovery requirement.

Under NEIMA, the NRC must use its IOAA authority first to collect service fees for NRC work that provides specific benefits to identifiable recipients (such as licensing work, inspections, and special projects). The NRC's regulations in 10 CFR part 170, “Fees for Facilities, Materials, Import and Export Licenses, and Other Regulatory Services Under the Atomic Energy Act of 1954, as Amended,” explain how the agency collects service fees from specific beneficiaries. Because the NRC's fee recovery under the IOAA (10 CFR part 170) will not equal 100 percent of the agency's total budget authority for the fiscal year (less the budget authority for excluded activities), the NRC also assesses “annual fees” under 10 CFR part 171, “Annual Fees for Reactor Licenses and Fuel Cycle Licenses and Materials Licenses, Including Holders of Certificates of Compliance, Registrations, and Quality Assurance Program Approvals and Government Agencies Licensed by the NRC,” to recover the remaining amount necessary to comply with NEIMA.

III. Discussion

FY 2022 Fee Collection—Overview

The NRC is issuing this FY 2022 proposed fee rule based on the FY 2022 budget request as further described in the NRC's FY 2022 Congressional Budget Justification (CBJ) (NUREG-1100, Volume 37) because a full-year appropriation has not yet been enacted for FY 2022. The amount used for total budget authority in this proposed rule is $887.7 million, an increase of $43.3 million from FY 2021. As explained previously, certain portions of the NRC's total budget authority for the fiscal year are excluded from NEIMA's fee-recovery requirement under Section 102(b)(1)(B) of NEIMA. Based on the FY 2022 budget request, these exclusions total $131.0 million, an increase of $8.0 million from FY 2021. These excluded activities consist of $91.5 million for fee-relief activities, $23.1 million for advanced reactor regulatory infrastructure activities, $14.3 million for generic homeland security activities, $1.0 million for waste incidental to reprocessing activities, and $1.1 million for Inspector General services for the Defense Nuclear Facilities Safety Board. Table I summarizes the excluded activities for the FY 2022 proposed fee rule. The FY 2021 amounts are provided for comparison purposes.

Table I—Excluded Activities
(Dollars in millions)
| FY 2021 final rule | FY 2022 proposed rule
Fee-Relief Activities:
International activities | 24.7 | 25.5
Agreement State oversight | 10.4 | 11.1
Medical isotope production infrastructure | 7.0 | 3.7
Fee exemption for nonprofit educational institutions | 9.3 | 11.6
Costs not recovered from small entities under 10 CFR 171.16(c) | 7.8 | 7.4
Regulatory support to Agreement States | 12.3 | 12.1
Generic decommissioning/reclamation activities (not related to the operating power reactors and spent fuel storage fee classes) | 14.9 | 15.9
Uranium recovery program and unregistered general licensees | 3.7 | 3.0
Potential Department of Defense remediation program Memorandum of Understanding activities | 1.0 | 0.9
Non-military radium sites | 0.2 | 0.3
Subtotal Fee-Relief Activities | 91.2 | 91.5
Activities under Section 102(b)(1)(B)(ii) of NEIMA (Generic Homeland Security activities, Waste Incidental to Reprocessing activities, and the Defense Nuclear Facilities Safety Board) | 14.1 | 16.4
Advanced reactor regulatory infrastructure activities | 17.7 | 23.1
Total Excluded Activities | 123.0 | 131.0

After accounting for the exclusions from the fee-recovery requirement and net billing adjustments (i.e., for FY 2022 invoices that the NRC estimates will not be paid during the fiscal year, less payments received in FY 2022 for prior year invoices), the NRC must recover approximately $752.2 million in fees in FY 2022. Of this amount, the NRC estimates that $188.9 million will be recovered through 10 CFR part 170 service fees and approximately $563.3 million will be recovered through 10 CFR part 171 annual fees. Table II summarizes the fee-recovery amounts for the FY 2022 proposed fee rule using the budget request and takes into account the budget authority for excluded activities and net billing adjustments. For all information presented in the following tables, individual values may not sum to totals due to rounding. Please see the work papers, available as indicated in the “Availability of Documents” section of this document, for actual amounts.

In FY 2021, the explanatory statement associated with the Consolidated Appropriations Act, 2021, included direction for the NRC to use $35.0 million in prior-year unobligated carryover funds, including $16.0 million for the University Nuclear Leadership Program. Since a full-year appropriation has not yet been enacted, the FY 2022 proposed fee rule is based on the FY 2022 budget request. Therefore, this proposed fee rule does not account for the utilization of carryover funds. The FY 2021 amounts are provided for comparison purposes.

TABLE II—Budget and Fee Recovery Amounts
(Dollars in millions)
| FY 2021 Final rule | FY 2022 Proposed rule
Total Budget Authority | $844.4 | $887.7
Less Budget Authority for Excluded Activities: | −123.0 | −131.0
Balance | 721.4 | 756.7
Fee Recovery Percent | 100 | 100
Total Amount to be Recovered: | 721.4 | 756.7
Less Estimated Amount to be Recovered through 10 CFR Part 170 Fees | −190.6 | −188.9
Estimated Amount to be Recovered through 10 CFR Part 171 Fees | 530.8 | 567.8
10 CFR Part 171 Billing Adjustments:
Unpaid Current Year Invoices (estimated) | 2.1 | 2.0
Less Current Year Collections from a Terminated Reactor—Indian Point Nuclear Generating, Unit 2 in FY 2020 and Indian Point Nuclear Generating, Unit 3 in FY 2021 | −2.7 | N/A
Less Payments Received in Current Year for Previous Year Invoices (estimated) | −12.8 | −6.5
Adjusted Amount to be Recovered through 10 CFR parts 170 and 171 Fees | 708.0 | 752.2
Adjusted 10 CFR part 171 Annual Fee Collections Required | 517.4 | 563.3

FY 2022 Fee Collection—Professional Hourly Rate

The NRC uses a professional hourly rate to assess fees under 10 CFR part 170 for specific services it provides. The professional hourly rate also helps determine flat fees (which are used for the review of certain types of license applications). This rate is applicable to all activities for which fees are assessed under §§ 170.21 and 170.31.

The NRC's professional hourly rate is derived by adding budgeted resources for (1) mission-direct program salaries and benefits, (2) mission-indirect program support, and (3) agency support (corporate support and the Inspector General). The NRC then subtracts certain offsetting receipts and divides this total by the mission-direct full-time equivalent (FTE) converted to hours (the mission-direct FTE converted to hours is the product of the mission-direct FTE multiplied by the estimated annual mission-direct FTE productive hours). The only budgeted resources excluded from the professional hourly rate are those for mission-direct contract resources, which are generally billed to licensees separately. The following shows the professional hourly rate calculation:

For FY 2022, the NRC is proposing to increase the professional hourly rate from $288 to $291. The 0.9 percent increase in the professional hourly rate is primarily due to a 1.5 percent increase in budgetary resources of approximately $11.2 million. The increase in budgetary resources is, in turn, primarily due to an increase in salaries and benefits to support Federal pay raises for NRC employees. The anticipated increase in the number of mission-direct FTE compared to FY 2021 is an offset to the increase in the professional hourly rate. The number of mission-direct FTE is expected to increase by 10, primarily to support new reactor licensing activities, including the review of design certifications, pre-application activities, and the review of combined license (COL) applications.

The FY 2022 estimate for annual mission-direct FTE productive hours is 1,510 hours, which is unchanged from FY 2021. This estimate, also referred to as the productive hours assumption, reflects the average number of hours that a mission-direct employee spends on mission-direct work in a given year. This estimate, therefore, excludes hours charged to annual leave, sick leave, holidays, training, and general administrative tasks. Table III shows the professional hourly rate calculation methodology. The FY 2021 amounts are provided for comparison purposes.

Table III—Professional Hourly Rate Calculation
[Dollars in millions, except as noted]
| FY 2021 final rule | FY 2022 proposed rule
Mission-Direct Program Salaries & Benefits | $335.3 | $348.9
Mission-Indirect Program Support | $113.2 | $115.6
Agency Support (Corporate Support and the IG) | $283.7 | $278.9
Subtotal | $732.2 | $743.4
Less Offsetting Receipts ¹ | $0.0 | $0.0
Total Budgeted Resources Included in Professional Hourly Rate | $732.2 | $743.4
Mission-Direct FTE (Whole numbers) | 1,684 | 1,694
Annual Mission-Direct FTE Productive Hours (Whole numbers) | 1,510 | 1,510
Mission-Direct FTE Converted to Hours (Mission-Direct FTE multiplied by Annual Mission-Direct FTE Productive Hours) | 2,542,840 | 2,557,940
Professional Hourly Rate (Total Budgeted Resources Included in Professional Hourly Rate Divided by Mission-Direct FTE Converted to Hours) (Whole Numbers) | $288 | $291

FY 2022 Fee Collection—Flat Application Fee Changes

¹ The fees collected by the NRC for Freedom of Information Act (FOIA) services and indemnity fees (financial protection required of all licensees for public liability claims at 10 CFR part 140) are subtracted from the budgeted resources amount when calculating the 10 CFR part 170 professional hourly rate, per the guidance in the Office of Management and Budget (OMB) Circular A-25, User Charges. The budgeted resources for FOIA activities are allocated under the product for Information Services within the Corporate Support business line. The budgeted resources for indemnity activities are allocated under the Licensing Actions and Research and Test Reactors products within the Operating Reactors business line.

The NRC proposes to amend the flat application fees it charges in its schedule of fees in §§ 170.21 and 170.31 to reflect the revised professional hourly rate of $291. The NRC charges these fees to applicants for materials licenses and other regulatory services, as well as to holders of materials licenses. The NRC calculates these flat fees by multiplying the average professional staff hours needed to process the licensing actions by the professional hourly rate for FY 2022. As part of its calculations, the NRC analyzes the actual hours spent performing licensing actions and estimates the five-year average of professional staff hours that are needed to process licensing actions as part of its biennial review of fees. These actions are required by Section 205(a) of the Chief Financial Officers Act of 1990 (31 U.S.C. 902(a)(8)). The NRC performed this review in FY 2021 and will perform this review again in FY 2023. The higher professional hourly rate of $291 is the primary reason for the increase in flat application fees (see the work papers).

In order to simplify billing, the NRC rounds these flat fees to a minimal degree. Specifically, the NRC rounds these flat fees (up or down) in such a way that ensures both convenience for its stakeholders and minimal effects due to rounding. Accordingly, fees under $1,000 are rounded to the nearest $10, fees between $1,000 and $100,000 are rounded to the nearest $100, and fees greater than $100,000 are rounded to the nearest $1,000.

The flat fees are applicable for certain materials licensing actions (see fee categories 1.C. through 1.D., 2.B. through 2.F., 3.A. through 3.S., 4.B. through 5.A., 6.A. through 9.D., 10.B., 15.A. through 15.L., 15.R., and 16 of § 170.31). Applications filed on or after the effective date of the FY 2022 final fee rule will be subject to the revised fees in the final rule.

In accordance with NEIMA, in FY 2022, the NRC identified international activities, including the resources for import and export licensing activities, as a fee-relief activity to be excluded from the fee-recoverable budget. The FY 2021 final fee rule, published in the Federal Register (86 FR 32146; June 16, 2021), provided for fees to be charged for import and export licensing actions, consistent with the FY 2021 budget request. However, charging fees under 10 CFR part 170 for import and export licensing actions during the effective dates of the FY 2021 final fee rule would be inconsistent with the Commission's substantive fee policy decision in the FY 2022 budget request and would result in the NRC imposing fees for import and export licensing actions for only one FY between FY 2018 and FY 2022. This would not be fair and equitable and could also lead to confusion for the affected import and export license applicants/licensees. Therefore, in light of the particular facts and unique history associated with this matter, on August 20, 2021, the Chief Financial Officer concluded that it would be in the public interest to grant an exemption from the provisions in the FY 2021 final fee rule (in §§ 170.21 and 170.31) that would require fees for import and export licensing actions in accordance with § 170.11(b). In accordance with the Commission's substantive fee policy decision for FY 2022, fees will not be assessed for import and exporting licensing activities (see fee categories K.1. through K.5. of § 170.21 and fee categories 15.A. through 15.R. of § 170.31) under this proposed rule.

FY 2022 Fee Collection—Low-Level Waste Surcharge

As in prior years, the NRC proposes to assess a generic low-level waste (LLW) surcharge of $4.3 million. Disposal of LLW occurs at commercially operated LLW disposal facilities that are licensed by either the NRC or an Agreement State. Four existing LLW disposal facilities in the United States accept various types of LLW. All are located in Agreement States and, therefore, are regulated by an Agreement State, rather than the NRC. The NRC proposes to allocate this surcharge to its licensees based on data available in the U.S. Department of Energy's (DOE) Manifest Information Management System. This database contains information on total LLW volumes disposed of by four generator classes: Academic, industrial, medical, and utility. The ratio of waste volumes disposed of by these generator classes to total LLW volumes disposed over a period of time is used to estimate the portion of this surcharge that will be allocated to the power reactors, fuel facilities, and the materials users fee classes. The materials users fee class portion is adjusted to account for the large percentage of materials licensees that are licensed by the Agreement States rather than the NRC.

Table IV shows the allocation of the LLW surcharge and its allocation across the various fee classes.

Table IV—Allocation of LLW Surcharge FY 2022
[Dollars in millions]
Fee classes | LLW surcharge: Percent | LLW surcharge: $
Operating Power Reactors | 87.5 | 3.7
Spent Fuel Storage/Reactor Decommissioning | 0.0 | 0.0
Non-Power Production or Utilization Facilities | 0.0 | 0.0
Fuel Facilities | 9.9 | 0.4
Materials Users | 2.6 | 0.1
Transportation | 0.0 | 0.0
Rare Earth Facilities | 0.0 | 0.0
Uranium Recovery | 0.0 | 0.0
Total | 100.0 | 4.3

FY 2022 Fee Collection—Revised Annual Fees

In accordance with SECY-05-0164, “Annual Fee Calculation Method,” the NRC rebaselines its annual fees every year. “Rebaselining” entails analyzing the budget in detail and then allocating the FY 2022 budgeted resources to various classes or subclasses of licensees. It also includes updating the number of NRC licensees in its fee calculation methodology.

The NRC is proposing revisions to its annual fees in §§ 171.15 and 171.16 to recover approximately 100 percent of the NRC's FY 2022 budget request (less the budget authority for excluded activities and the estimated amount to be recovered through 10 CFR part 170 fees). The total estimated 10 CFR part 170 collections for this proposed rule are $188.9 million, which is a decrease of $1.6 million from the FY 2021 final rule. The NRC, therefore, must recover $563.3 million through annual fees from its licensees, which is an increase of $43.1 million from the FY 2021 final rule.

Table V shows the proposed rebaselined fees for FY 2022 for a sample of licensee categories. The FY 2021 amounts are provided for comparison purposes.

Table V—Rebaselined Annual Fees
[Actual dollars]
Class/category of licenses | FY 2021 final annual fee | FY 2022 proposed annual fee
Operating Power Reactors | $4,749,000 | $5,165,000
+ Spent Fuel Storage/Reactor Decommissioning | 237,000 | 254,000
Total, Combined Fee | 4,986,000 | 5,419,000
Spent Fuel Storage/Reactor Decommissioning | 237,000 | 254,000
Non-Power Production or Utilization Facilities | 80,000 | 93,000
High Enriched Uranium Fuel Facility (Category 1.A.(1)(a)) | 4,643,000 | 4,441,000
Low Enriched Uranium Fuel Facility (Category 1.A.(1)(b)) | 1,573,000 | 1,505,000
Uranium Enrichment (Category 1.E) | 2,023,000 | 1,935,000
UF6 Conversion and Deconversion Facility (Category 2.A.(1) | 467,000 | 447,000
Basic In Situ Recovery Facilities (Category 2.A.(2)(b)) | 47,200 | 47,000
Typical Users:
Radiographers (Category 3O) | 29,100 | 29,700
All Other Specific Byproduct Material Licensees (Category 3P) | 9,900 | 9,900
Medical Other (Category 7C) | 16,800 | 17,000
Device/Product Safety Evaluation—Broad (Category 9A) | 17,900 | 18,200

The work papers that support this proposed rule show in detail how the NRC allocates the budgeted resources for each class of licensees and calculates the fees.

Paragraphs a. through h. of this section describe the budgeted resources allocated to each class of licensees and the calculations of the rebaselined fees. For more information about detailed fee calculations for each class, please consult the accompanying work papers for this proposed rule.

a. Operating Power Reactors

The NRC proposes to collect $485.5 million in annual fees from the operating power reactors fee class in FY 2022, as shown in Table VI. The FY 2021 operating power reactors fees are shown for comparison purposes.

Table VI—Annual Fee Summary Calculations for Operating Power Reactors
[Dollars in millions]
Summary fee calculations | FY 2021 final rule | FY 2022 proposed rule
Total budgeted resources | $611.8 | $645.1
Less estimated 10 CFR part 170 receipts | −161.6 | −160.0
Net 10 CFR part 171 resources | 450.2 | 485.1
Allocated generic transportation | 0.3 | 0.5
Allocated LLW surcharge | 2.9 | 3.7
Billing adjustment | −9.1 | −3.9
Adjustment: Estimated current year collections from a terminated reactor (Indian Point Generating, Unit 3 in FY 2021) | −2.7 | N/A
Total required annual fee recovery | 441.7 | 485.5
Total operating reactors | 93 | 94
Annual fee per operating reactor | $4.749 | $5.165

In comparison to FY 2021, the FY 2022 proposed annual fee for the operating power reactors fee class is increasing primarily due to the following: (1) An increase in budgeted resources; (2) a reduction of the 10 CFR part 171 billing adjustment; (3) the absence of the collection adjustment that was provided in FY 2021 due to the shutdown of Indian Point Generating, Unit 3; and (4) a decrease in 10 CFR part 170 estimated billings. The increase in the annual fee for the operating power reactors fee class is partially offset due to the increase in the total number of operating power reactors from 93 to 94. These components are discussed in the following paragraphs.

The budgeted resources for the operating power reactors fee class increased primarily due to the following: (1) An increase in contract funding in the information technology program to support the Mission Analytics Portal (a tool to enhance the agency's ability to leverage data to support mission activities), to develop infrastructure to increase analytics capabilities using artificial intelligence, and to develop mobile applications for resident inspectors; (2) an increase in certain contract costs in the areas of research, event response, and licensing due to the absence of authorized prior year unobligated carryover funding compared to FY 2021; (3) to support new reactor licensing activities for the review of the Westinghouse eVinci micro reactor design certification, the review of the NuScale Power, LLC standard design approval application, and pre-application activities for three non-light water reactors and COL applications; and (4) security-related pre-application activities for the Utah Associated Municipal Power Systems application. These new reactor resources are offset by a decrease in oversight resulting from the anticipated transition of Vogtle Electric Generating Plant, Units 3 and 4 (Vogtle Units 3 and 4), from construction into operation.

The proposed annual fee is also increasing due to the following contributing factors: (1) A lower 10 CFR part 171 billing adjustment credit than was included in the operating power reactors fee class calculation in FY 2021 from the deferral of annual fees and service fees due to the coronavirus disease (COVID-19) pandemic; and (2) the absence of the one-time current year collection adjustment that resulted in a credit of $2,700,000 due to the shutdown of Indian Point Nuclear Generating, Unit 3, in FY 2021.

Furthermore, the proposed annual fee for the operating power reactors fee class is increasing due to a decrease in the 10 CFR part 170 estimated billings as a result of the following: (1) The NRC's denial of the Oklo Power, LLC COL application to build and operate the Aurora compact fast reactor and (2) a decrease in hours associated with operator reactor licensing activities. The decrease in 10 CFR part 170 estimated billings is offset by an increase in work due to the following: (1) An anticipated rise in in-person inspections and travel as COVID-19 impacts become less prominent; (2) an increase in operating reactors license renewal applications; and (3) licensing activities to support the planned reviews of new power reactor designs.

The fee-recoverable budgeted resources are divided equally among the 94 licensed operating power reactors, an increase of one operating power reactor compared to FY 2021 due to the proposed assessment of annual fees for Vogtle Unit 3, resulting in an annual fee of $5,165,000 per reactor. Additionally, each licensed operating power reactor will be assessed the FY 2022 spent fuel storage/reactor decommissioning annual fee of $254,000 (see Table VII and the discussion that follows). The combined FY 2022 proposed annual fee for each operating power reactor is $5,419,000.

Section 102(b)(3)(B)(i) of NEIMA established a new cap for the annual fees charged to operating reactor licensees; under this provision, the annual fee for an operating reactor licensee, to the maximum extent practicable, shall not exceed the annual fee amount per operating reactor licensee established in the FY 2015 final fee rule (80 FR 37432; June 30, 2015), adjusted for inflation. The NRC included an estimate of the operating power reactors annual fee in Appendix C, “Estimated Operating Power Reactors Annual Fee,” of the FY 2022 budget request, with the intent to increase transparency with stakeholders. The NRC developed this estimate based on the staff's allocation of the FY 2022 budget request to fee classes under 10 CFR part 170, and allocations within the operating power reactors fee class under 10 CFR part 171. In addition, the estimated annual fee assumed 94 operating power reactors in FY 2022 and applied various data assumptions from the FY 2021 final fee rule (86 FR 32146; June 16, 2021). Based on these allocations and assumptions, the operating power reactor annual fee included in the FY 2022 budget request was estimated to be $4.8 million, approximately $0.6 million below the FY 2015 operating power reactors annual fee amount adjusted for inflation of $5.5 million. Although the FY 2022 budget request included the estimated operating power reactors annual fee, the assumptions made between budget formulation and the development of the FY 2022 proposed rule have changed; however, the FY 2022 proposed annual fee of $5,165,000 remains below the FY 2015 operating power reactors annual fee amount adjusted for inflation.

In FY 2016, the NRC amended its licensing, inspection, and annual fee regulations to establish a variable annual fee structure for light-water small modular reactors (SMRs) (81 FR 32617). Under the variable annual fee structure, an SMR annual fee would be assessed as a function of its bundled licensed thermal power rating. Currently, there are no operating SMRs; therefore, the NRC will not assess an annual fee in FY 2022 for this type of licensee.

b. Spent Fuel Storage/Reactor Decommissioning

The NRC proposes to collect $31.3 million in annual fees from 10 CFR part 50 power reactor licensees, and from 10 CFR part 72 licensees that do not hold a 10 CFR part 50 license, to recover the budgeted resources for the spent fuel storage/reactor decommissioning fee class in FY 2022, as shown in Table VII. The FY 2021 spent fuel storage/reactor decommissioning fees are shown for comparison purposes.

Table VII—Annual Fee Summary Calculations for Spent Fuel Storage/Reactor Decommissioning
[Dollars in millions]
Summary fee calculations | FY 2021 final rule | FY 2022 proposed rule
Total budgeted resources | $42.2 | $40.4
Less estimated 10 CFR part 170 receipts | −13.8 | −10.3
Net 10 CFR part 171 resources | 28.4 | 30.2
Allocated generic transportation costs | 1.1 | 1.4
Billing adjustments | −0.6 | −0.3
Total required annual fee recovery | 28.9 | 31.3
Total spent fuel storage facilities | 122 | 123
Annual fee per facility | 0.237 | 0.254

In comparison to FY 2021, the FY 2022 proposed annual fee for the spent fuel storage/reactor decommissioning fee class is increasing primarily due to the following: (1) The decline in the 10 CFR part 170 estimated billings and (2) a reduction of the 10 CFR part 171 billing adjustment. The increase in the proposed annual fee is partially offset by a decrease in the budgeted resources. These components are discussed in the following paragraphs.

The 10 CFR part 170 estimated billings for the spent fuel storage/reactor decommissioning fee class decreased primarily due to the following: (1) A reduction in hours and contract support associated with the staff's review of applications for renewals and amendments for independent spent fuel storage installation (ISFSI) licenses and dry cask storage certificates of compliance (CoCs); (2) the completion of the review of the Interim Storage Partners consolidated interim storage facility application and issuance of the license; and (3) the near completion of the staff's review of the Holtec HI-STORE consolidated interim storage facility application. This decrease in the 10 CFR part 170 estimated billings is partially offset by increased work, including the following: (1) Inspection activities, exemption requests, and financial assurance reviews for ISFSI licenses and dry cask storage CoCs; (2) the staff's review of a new fuel storage system; and (3) activities within the power reactor decommissioning program to support Indian Point Generating Unit 2's transition to decommissioning, the staff's review of a license transfer application for Kewaunee, and an increase in contract support for license termination plan activities, cooling tower demo surveys, and confirmatory surveys.

The increase in the annual fee is also due to a lower 10 CFR part 171 billing adjustment credit than was included in the spent fuel storage/reactor decommissioning fee class calculation in FY 2021 from the deferral of annual fees and service fees due to the COVID-19 pandemic.

The increase in the annual fee for the spent fuel storage/reactor decommissioning fee class is partially offset by a decline in budgeted resources with changes in workload primarily due to the completion of the license application reviews for the consolidated interim storage facilities and renewals for other ISFSIs. The decrease in the budgeted resources is offset by an increase in contract costs due to the absence of prior year unobligated carryover funding compared to FY 2021.

The required annual fee recovery amount is divided equally among 123 licensees, resulting in a FY 2022 annual fee of $254,000 per licensee.

c. Fuel Facilities

The NRC proposes to collect $16.8 million in annual fees from the fuel facilities fee class in FY 2022, as shown in Table VIII. The FY 2021 fuel facilities fees are shown for comparison purposes.

Table VIII—Annual Fee Summary Calculations for Fuel Facilities
[Dollars in millions]
Summary fee calculations | FY 2021 final rule | FY 2022 proposed rule
Total budgeted resources | $23.3 | $22.4
Less estimated 10 CFR part 170 receipts | −7.3 | −7.8
Net 10 CFR part 171 resources | 16.0 | 14.6
Allocated generic transportation | 1.5 | 1.9
Allocated LLW surcharge | 0.3 | 0.4
Billing adjustments | −0.4 | −0.2
Total remaining required annual fee recovery | 17.5 | 16.8

In comparison to FY 2021, the FY 2022 proposed annual fee for the fuel facilities fee class is decreasing primarily due to the decrease in budgeted resources and the increase in 10 CFR part 170 estimated billings as discussed in the following paragraphs.

The budgeted resources for the fuel facilities fee class decreased primarily due to the following: (1) Efficiencies gained as a result of implemented enhancements to the licensing program and 2) enhancements made to the fuel facility oversight program through the implementation of the smarter inspection program.

The 10 CFR part 170 estimated billings increased as a result of the following: (1) The review of a new fuel facility license application, including the environmental review, for TRISO-X and (2) the staff's continued review of the Westinghouse Electric Company, LLC license renewal application.

The NRC will continue allocating annual fees to individual fuel facility licensees based on the effort/fee determination matrix developed in the FY 1999 final fee rule (64 FR 31447; June 10, 1999). To briefly recap, the matrix groups licensees within this fee class into various fee categories. The matrix lists processes that are conducted at licensed sites and assigns effort factors for the safety and safeguards activities associated with each process (these effort levels are reflected in Table IX). The annual fees are then distributed across the fee class based on the regulatory effort assigned by the matrix. The effort factors in the matrix represent regulatory effort that is not recovered through 10 CFR part 170 fees (e.g., rulemaking, guidance). Regulatory effort for activities that are subject to 10 CFR part 170 fees, such as the number of inspections, is not applicable to the effort factor.

Table IX—Effort Factors for Fuel Facilities, FY 2022
Facility type (fee category) | Number of facilities | Effort factors: Safety | Effort factors: Safeguards
High-Enriched Uranium Fuel (1.A.(1)(a)) | 2 | 88 | 91
Low-Enriched Uranium Fuel (1.A.(1)(b)) | 3 | 70 | 21
Limited Operations (1.A.(2)(a)) | 1 | 3 | 17
Gas Centrifuge Enrichment Demonstration (1.A.(2)(b)) | 0 | 0 | 0
Hot Cell (and others) (1.A.(2)(c)) | 0 | 0 | 0
Uranium Enrichment (1.E.) | 1 | 16 | 23
UF6 Conversion and Deconversion (2.A.(1)) | 1 | 7 | 2

In FY 2022, the total remaining amount of the proposed annual fees to be recovered, $16.8 million, is attributable to safety activities, safeguards activities, and the LLW surcharge. For FY 2022, the total budgeted resources proposed to be recovered as annual fees for safety activities are $8.9 million. To calculate the annual fee, the NRC allocates this amount to each fee category based on its percentage of the total regulatory effort for safety activities. Similarly, the NRC allocates the budgeted resources to be recovered as annual fees for safeguards activities, $7.5 million, to each fee category based on its percentage of the total regulatory effort for safeguards activities. Finally, the fuel facilities fee class portion of the LLW surcharge—$0.4 million—is allocated to each fee category based on its percentage of the total regulatory effort for both safety and safeguards activities. The proposed annual fee per licensee is then calculated by dividing the total allocated budgeted resources for the fee category by the number of licensees in that fee category. The proposed annual fee for each facility is summarized in Table X.

Table X—Annual Fees for Fuel Facilities
[Actual dollars]
Facility type (fee category) | FY 2021 final annual fee | FY 2022 proposed annual fee
High-Enriched Uranium Fuel (1.A.(1)(a)) | $4,643,000 | $4,441,000
Low-Enriched Uranium Fuel (1.A.(1)(b)) | 1,573,000 | 1,505,000
Facilities with limited operations (1.A.(2)(a)) | 1,037,000 | 992,000
Gas Centrifuge Enrichment Demonstration (1.A.(2)(b)) | N/A | N/A
Hot Cell (and others) (1.A.(2)(c)) | N/A | N/A
Uranium Enrichment (1.E.) | 2,023,000 | 1,935,000
UF6 Conversion and Deconversion (2.A.(1)) | 467,000 | 447,000

d. Uranium Recovery Facilities

The NRC proposes to collect $0.2 million in annual fees from the uranium recovery facilities fee class in FY 2022, as shown in Table XI. The FY 2021 uranium recovery facilities fees are shown for comparison purposes.

Table XI—Annual Fee Summary Calculations for Uranium Recovery Facilities
[Dollars in millions]
Summary fee calculations | FY 2021 final rule | FY 2022 proposed rule
Total budgeted resources | $0.5 | $0.7
Less estimated 10 CFR part 170 receipts | −0.3 | −0.5
Net 10 CFR part 171 resources | 0.2 | 0.2
Allocated generic transportation | N/A | N/A
Billing adjustments | 0.0 | 0.0
Total required annual fee recovery | 0.2 | 0.2

In comparison to FY 2021, the FY 2022 proposed annual fee for the non-DOE licensee in the uranium recovery facilities fee class is decreasing slightly due to an increase in 10 CFR part 170 estimated billings to support an increase in casework for Crow Butte Resources, Inc. related to its license renewal and to support a dam safety inspection.

The NRC regulates DOE's Title I and Title II activities under the Uranium Mill Tailings Radiation Control Act (UMTRCA).² The annual fee assessed to DOE includes the resources specifically budgeted for the NRC's UMTRCA Title I and II activities, as well as 10 percent of the remaining budgeted resources for this fee class. The NRC described the overall methodology for determining fees for UMTRCA in the FY 2002 fee rule (67 FR 42625; June 24, 2002), and the NRC continues to use this methodology. The DOE's UMTRCA proposed annual fee is increasing compared to FY 2021 due to an increase in budgetary resources attributed to generic work that staff will be performing to resolve issues associated with the transfer of NRC and Agreement State uranium mill tailings sites to the DOE for long-term surveillance and maintenance. The increase in the annual fee is offset by an increase in the 10 CFR part 170 estimated billings for the anticipated workload increases at various DOE UMTRCA sites. The NRC assesses the remaining 90 percent of its budgeted resources to the remaining licensee in this fee class, as described in the work papers, which is reflected in Table XII.

Table XII—Costs Recovered Through Annual Fees; Uranium Recovery Facilities Fee Class
[Actual dollars]
Summary of costs | FY 2021 final annual fee | FY 2022 proposed annual fee
DOE Annual Fee Amount (UMTRCA Title I and Title II) General Licenses:
UMTRCA Title I and Title II budgeted resources less 10 CFR part 170 receipts | $111,536 | $170,294
10 percent of generic/other uranium recovery budgeted resources | 5,241 | 5,222
10 percent of uranium recovery fee-relief adjustment | N/A | N/A
Total Annual Fee Amount for DOE (rounded) | 117,000 | 176,000
Annual Fee Amount for Other Uranium Recovery Licenses:
90 percent of generic/other uranium recovery budgeted resources less the amounts specifically budgeted for UMTRCA Title I and Title II activities | 47,166 | 46,994
90 percent of uranium recovery fee-relief adjustment | N/A | N/A
Total Annual Fee Amount for Other Uranium Recovery Licenses | 47,166 | 46,994

Further, for any non-DOE licensees, the NRC will continue using a matrix to determine the effort levels associated with conducting generic regulatory actions for the different licensees in the uranium recovery facilities fee class; this is similar to the NRC's approach for fuel facilities, described previously. The matrix methodology for uranium recovery licensees first identifies the licensee categories included within this fee class (excluding DOE). These categories are: Conventional uranium mills and heap leach facilities, uranium in situ recovery (ISR) and resin ISR facilities, and mill tailings disposal facilities. The matrix identifies the types of operating activities that support and benefit these licensees, along with each activity's relative weight (see the work papers). Currently, there is only one remaining non-DOE licensee, which is a basic in situ recovery facility. Table XIII displays the benefit factors for the non-DOE licensee in that fee category.

² Congress established the two programs, Title I and Title II, under UMTRCA to protect the public and the environment from hazards associated with uranium milling. The UMTRCA Title I program is for remedial action at abandoned mill tailings sites where tailings resulted largely from production of uranium for weapons programs. The NRC also regulates DOE's UMTRCA Title II program, which is directed toward uranium mill sites licensed by the NRC or Agreement States in or after 1978.

Table XIII—Benefit Factors for Uranium Recovery Licenses
Fee category | Number of licensees | Benefit factor per licensee | Total value | Benefit factor percent total
Conventional and Heap Leach mills (2.A.(2)(a)) | 0 | 0 | 0 | 0
Basic In Situ Recovery facilities (2.A.(2)(b)) | 1 | 190 | 190 | 100
Expanded In Situ Recovery facilities (2.A.(2)(c)) | 0 | 0 | 0 | 0
Section 11e.(2) disposal incidental to existing tailings sites (2.A.(4)) | 0 | 0 | 0 | 0
Total | 1 | 190 | 190 | 100

The FY 2022 proposed annual fee for the remaining non-DOE licensee is calculated by allocating 100 percent of the budgeted resources, as summarized in Table XIV.

Table XIV—Annual Fees for Uranium Recovery Licensees
[Other than DOE]
[Actual dollars]
Facility type (fee category) | FY 2021 final annual fee | FY 2022 proposed annual fee
Conventional and Heap Leach mills (2.A.(2)(a)) | N/A | N/A
Basic In Situ Recovery facilities (2.A.(2)(b)) | $47,200 | $47,000
Expanded In Situ Recovery facilities (2.A.(2)(c)) | N/A | N/A
Section 11e.(2) disposal incidental to existing tailings sites (2.A.(4)) | N/A | N/A

e. Non-Power Production or Utilization Facilities

The NRC proposes to collect $0.279 million in annual fees from the non-power production or utilization facilities fee class in FY 2022, as shown in Table XV. The final FY 2021 non-power production or utilization facilities fees are shown for comparison purposes.

Table XV—Annual Fee Summary Calculations for Non-Power Production or Utilization Facilities
[Actual dollars]
Summary fee calculations | FY 2021 final rule | FY 2022 proposed rule
Total budgeted resources | $2,896,754 | $6,079,694
Less estimated 10 CFR part 170 receipts | −2,576,000 | −5,803,000
Net 10 CFR part 171 resources | 320,754 | 276,694
Allocated generic transportation ³ | 43,302 | 38,860
Billing adjustments ³ | −43,915 | −36,633
Total required annual fee recovery | 320,141 | 278,921
Total non-power production or utilization facilities licenses | 4 | 3
Total annual fee per license (rounded) | $80,000 | $93,000

In comparison to FY 2021, the FY 2022 proposed annual fee for the non-power production or utilization facilities fee class is increasing, primarily due to the decrease of non-power production or utilization facilities from four to three due to the expected transition of the Aerotest Radiography and Research Reactor to decommissioning.

³ In the FY 2021 final fee rule, the decimal places for the “allocated generic transportation” and “billing adjustments” calculations were adjusted to the thousandths place instead of the correct ten thousandths place. There was no impact to the overall calculation for the FY 2021 final fee rule. The revised dollar amounts for FY 2021 are shown here to align with the rest of Table XV and provide a clearer comparison to the FY 2022 proposed fees.

In FY 2022, the budgetary resources for the non-power production or utilization facilities fee class are primarily increasing because of an increase in workload associated with medical isotope production facilities and advanced research and test reactors. In addition, the 10 CFR part 170 estimated billings with respect to the medical isotope production facilities and advanced research and test reactors are increasing primarily due to the following: (1) The staff's review of the operating license application for SHINE Medical Technologies, LLC and construction inspection activities; (2) the staff's review of the Kairos Power application for a permit to construct a test reactor; (3) pre-application meetings; and (4) the review of topical reports. The 10 CFR part 170 estimated billings associated with the current fleet of operating non-power production or utilization facilities licensees subject to annual fees are increasing to support the following: (1) Activities associated with the review of the GE Nuclear Test Reactor license renewal application and amendments and (2) activities associated with the special team inspection and restart for the National Institute of Standards and Technology Neutron Reactor.

The annual fee-recovery amount is divided equally among the three non-power production or utilization facilities licensees subject to annual fees and results in an FY 2022 proposed annual fee of $93,000 for each licensee.

f. Rare Earth

The agency received an application for a rare earth facility in FY 2021. In FY 2022, the NRC has allocated approximately $0.2 million in budgeted resources to this fee class; however, because all the budgetary resources will be recovered through service fees assessed under 10 CFR part 170, the NRC is not proposing to assess and collect annual fees in FY 2022 for this fee class.

g. Materials Users

The NRC proposes to collect $35.0 million in annual fees from materials users licensed under 10 CFR parts 30, 40, and 70 in FY 2022, as shown in Table XVI. The FY 2021 materials users fees are shown for comparison purposes.

Table XVI—Annual Fee Summary Calculations for Materials Users
[Dollars in millions]
Summary fee calculations | FY 2021 final rule | FY 2022 proposed rule
Total budgeted resources for licensees not regulated by Agreement States | $35.1 | $34.1
Less estimated 10 CFR part 170 receipts | −1.0 | −0.9
Net 10 CFR part 171 resources | 34.1 | 33.2
Allocated generic transportation | 1.5 | 1.8
LLW surcharge | 0.1 | 0.1
Billing adjustments | −0.4 | −0.2
Total required annual fee recovery | 35.3 | 35.0

The formula for calculating 10 CFR part 171 annual fees for the various categories of materials users is described in detail in the work papers. Generally, the calculation results in a single annual fee that includes 10 CFR part 170 costs, such as amendments, renewals, inspections, and other licensing actions specific to individual fee categories.

The total annual fee recovery of $35.0 million for FY 2022 shown in Table XVI consists of $27.2 million for general costs, $7.7 million for inspection costs, and $0.1 million for LLW costs. To equitably and fairly allocate the $35.0 million required to be collected among approximately 2,460 diverse materials users licensees, the NRC continues to calculate the annual fees for each fee category within this class based on the 10 CFR part 170 application fees and estimated inspection costs for each fee category. Because the application fees and inspection costs are indicative of the complexity of the materials license, this approach provides a proxy for allocating the generic and other regulatory costs to the diverse fee categories. This fee calculation method also considers the inspection frequency (priority), which is indicative of the safety risk and resulting regulatory costs associated with the categories of licenses.

In comparison to FY 2021, the FY 2022 proposed annual fees are increasing for 44 fee categories within the materials users fee class primarily due to the following: (1) An increase in the budgeted resources for inspections activities compared to the FY 2021 biennial review of inspection hours; (2) a decline in 10 CFR part 170 estimated billings; (3) an increase in generic transportation costs for materials users; and (4) a reduction of materials users licensees from FY 2021.

A constant multiplier is established to recover the total general costs (including allocated generic transportation costs) of $27.2 million. To derive the constant multiplier, the general cost amount is divided by the sum of all fee categories (application fee plus the inspection fee divided by inspection priority) then multiplied by the number of licensees. This calculation results in a constant multiplier of 1.0 for FY 2022. The average inspection cost is the average inspection hours for each fee category multiplied by the professional hourly rate of $291. The inspection priority is the interval between routine inspections, expressed in years. The inspection multiplier is established in order to recover the $7.7 million in inspection costs. To derive the inspection multiplier, the inspection costs amount is divided by the sum of all fee categories (inspection fee divided by inspection priority) then multiplied by the number of licensees. This calculation results in an inspection multiplier of 1.47 for FY 2022. The unique category costs are any special costs that the NRC has budgeted for a specific category of licenses. Please see the work papers for more detail about this classification.

The proposed annual fee being assessed to each licensee also takes into account a share of approximately $0.11 million in LLW surcharge costs allocated to the materials users fee class (see Table IV, “Allocation of LLW Surcharge, FY 2022,” in Section III, “Discussion,” of this document). The proposed annual fee for each fee category is shown in the proposed revision to § 171.16(d).

h. Transportation

The NRC proposes to collect $1.7 million in annual fees to recover generic transportation budgeted resources in FY 2022, as shown in Table XVII. The FY 2021 fees are shown for comparison purposes.

Table XVII—Annual Fee Summary Calculations for Transportation
[Dollars in millions]
Summary fee calculations | FY 2021 final rule | FY 2022 proposed rule
Total budgeted resources | $8.3 | $10.2
Less estimated 10 CFR part 170 receipts | −2.3 | −2.8
Net 10 CFR part 171 resources | 5.9 | 7.3
Less generic transportation resources | −4.5 | −5.7
Billing adjustments | −0.1 | 0.0
Total required annual fee recovery | 1.4 | 1.7

In comparison to FY 2021, the FY 2022 proposed annual fee for the transportation fee class is increasing primarily due to an increase in the budgeted resources offset by: (1) An increase in the 10 CFR part 170 estimated billings and (2) generic transportation resources allocated to other fee classes as discussed in the following paragraphs.

In FY 2022, the budget resources increased primarily due to the following: (1) To support the staff's review of transportation package applications (including the reviews of accident tolerant fuels (ATF)); (2) to support research activities along with the development of technical bases for the review of transportation packages loaded with batch quantities of fresh ATF; and (3) an increase in certain contract costs due to the absence of prior year unobligated carryover funding compared to FY 2021.

The increase in the proposed annual fee is offset by an increase in 10 CFR part 170 estimated billings related to the review of new amendment packages and generic transportation resources allocated to respective fee classes due to an increase in the number of CoCs.

Consistent with the policy established in the NRC's FY 2006 final fee rule (71 FR 30721; May 30, 2006), the NRC recovers generic transportation costs unrelated to DOE by including those costs in the annual fees for licensee fee classes. The NRC continues to assess a separate annual fee under § 171.16, fee category 18.A., for DOE transportation activities. The amount of the allocated generic resources is calculated by multiplying the percentage of total CoCs used by each fee class (and DOE) by the total generic transportation resources to be recovered.

This resource distribution to the licensee fee classes and DOE is shown in Table XVIII. Note that for the non-power production or utilization facilities fee class, the NRC allocates the distribution to only those licensees that are subject to annual fees. Although five CoCs benefit the entire non-power production or utilization facilities fee class, only three out of 31 non-power production or utilization facilities licensees are subject to annual fees. Consequently, the number of CoCs used to determine the proportion of generic transportation resources allocated to annual fees for the non-power production or utilization facilities fee class has been adjusted to 0.5 so these licensees are charged a fair and equitable portion of the total fees (see the work papers).

Table XVIII—Distribution of Transportation Resources, FY 2022
[Dollars in millions]
Licensee fee class/DOE | Number of CoCs benefiting fee class or DOE | Percentage of total CoCs | Allocated generic transportation resources
Materials Users | 23.0 | 25.1 | $1.8
Operating Power Reactors | 6.0 | 6.6 | 0.5
Spent Fuel Storage/Reactor Decommissioning | 17.0 | 18.6 | 1.4
Non-Power Production or Utilization Facilities | 0.5 | 0.5 | 0.0
Fuel Facilities | 24.0 | 26.2 | 1.9
Sub-Total of Generic Transportation Resources | 70.5 | 77.0 | 5.6
DOE | 21.0 | 23.0 | 1.7
Total | 91.5 | 100.0 | 7.3

The NRC assesses an annual fee to DOE based on the 10 CFR part 71 CoCs it holds. The NRC, therefore, does not allocate these DOE-related resources to other licensees' annual fees because these resources specifically support DOE.

FY 2022—Policy Changes

The NRC is not proposing any policy changes for FY 2022.

FY 2022—Administrative Changes

The NRC is proposing five administrative changes in FY 2022:

1. Amend § 170.3, “Definitions,” by deleting the definition for the phrase review is completed and incorporating language from the definition into § 170.12(b)(3).

The NRC proposes to amend § 170.3 by eliminating the definition for the phrase review is completed and incorporating language from the definition into § 170.12(b)(3). The definition is unnecessary in 10 CFR part 170 because this phrase is only referenced one time. This proposed amendment would not impact the NRC's assessment of 10 CFR part 170 service fees.

2. Amend § 170.11, “Exemptions,” by clarifying exemption requirements.

The NRC proposes to amend paragraph (a)(1)(i) by replacing the word “that” with “where the request/report,” for consistency with the use of the latter phrase in the introductory text of paragraph (a)(1). In addition, the NRC proposes to amend paragraph (c) by replacing the word “work” with “request/report” for consistency with paragraph (a)(1) and to avoid any potential ambiguity about what is considered the “work” for purposes of the 90-day period in which the fee exemption must be submitted to the NRC's Chief Financial Officer.

The NRC also proposes to amend § 170.11(a)(1)(ii) by retaining the “generic regulatory improvements” clause in paragraph (a)(1)(ii) and moving “Office Director level or above,” to a new paragraph (a)(1)(iii). These changes would clarify that the Chief Financial Officer may grant an exemption when the review of a request/report, at the time it is submitted, would “assist the NRC in generic regulatory improvements or efforts,” even if there is no “request from the Office Director level or above” to resolve “an identified safety, safeguards, or environmental issue.”

Finally, the NRC proposes to move paragraph (a)(13) on CFO communications to a new paragraph (d) because this is not an exemption category but rather a separate requirement applicable to all fee exemption requests under 10 CFR part 170.

These proposed amendments to § 170.11 would not change the NRC's fee exemption policy.

3. Amend § 170.12(f), “Method of payment,” by clarifying the types of payments, updating the contact information for payments, and clarifying the payment method.

The NRC proposes to amend paragraph (f) by replacing “all license fees” with “all fee payments under 10 CFR part 170,” for additional clarity. Currently, paragraph (f) states, in part, that all license fee payments are to be payable to the U.S. Nuclear Regulatory Commission. Since paragraph (f) applies to all fees and not only licensing fees, this proposed amendment would provide additional clarity for fee payments under 10 CFR part 170. In addition, the NRC proposes to further amend paragraph (f) by replacing “License Fee and Accounts Receivable Branch” with the “Office of the Chief Financial Officer” to remove reference to a specific branch because the Office of the Chief Financial Officer collects fees for the NRC. This proposed amendment would eliminate the need to revise the branch information after reorganizations or branch name changes. Finally, the NRC is proposing to revise paragraph (f) to clarify that fee payments can be made electronically using www.Pay.gov or manually using NRC Form 629, “Authorization for Payment by Credit Card,” which will align with the terms and conditions that are currently being updated to clarify the methods of payment.

4. Add footnote 6 to the table in § 170.21, “Schedule of fees for production and utilization facilities, review of standard referenced design approvals, special projects, inspections, and import and export licenses,” and footnote 12 to the table in § 170.31, “Schedule of fees for materials licenses and other regulatory services, including inspections, and import and export licenses.”

The NRC proposes to add footnote 6 to the table in § 170.21 and footnote 12 to the table in § 170.31. In accordance with NEIMA, in FY 2022, the NRC identified international activities, including the resources for import and export licensing activities, as a fee-relief activity to be excluded from the fee-recoverable budget. Therefore, the NRC is not proposing to charge fees for import and export licensing actions.

5. Add footnote 13 to the table in § 170.31 for clarity.

The NRC proposes to add footnote 13 to the table in § 170.31 to clarify, with respect to 10 CFR part 170 fees, that licensees paying fees under 4.A., 4.B. or 4.C. in the table are not subject to paying fees under 3.N. The proposed footnote would be identical to footnote 21 to the table in § 171.16(d).

Update on the Fees Transformation Initiative

In the staff requirements memorandum, dated October 19, 2016, for SECY-16-0097, “Fee Setting Improvements and Fiscal Year 2017 Proposed Fee Rule,” the Commission directed the staff to accelerate its process improvements for setting fees. In addition, the Commission directed the staff to begin the fees transformation activities listed in SECY-16-0097 as “Process Changes Recommended for Future Consideration—FY 2018 and Beyond.” The NRC has completed 39 of the 40 fees transformation activities.

The one fees transformation activity yet to be completed is the rulemaking to update the NRC's small business size standards in § 2.810, “NRC size standards.” The NRC published a proposed rule on July 26, 2021 (86 FR 39980) and provided a 30-day comment period, which closed August 25, 2021. The NRC proposed to increase the upper and lower tiers for its receipts-based small entity size standards for small businesses and small not-for-profit organizations. This change would allow the NRC's standards to remain consistent with the inflation adjustments made by the Small Business Administration size standard for nonmanufacturing concerns. In addition, in accordance with the Small Business Runway Extension Act of 2018, the NRC proposed changing the calculation of annual average receipts for the receipts-based NRC size standard for small businesses that provide a service or for small businesses not engaged in manufacturing from a 3-year averaging period to a 5-year averaging period. The NRC did not receive public comments on the proposed rule and is in the process of publishing the final rule. The NRC will include updates on this rulemaking activity in the FY 2022 final fee rule to ensure that affected licensees are adequately informed. The public can track all NRC rulemaking activities, including the rulemaking on the NRC's size standards, on the NRC's Rulemaking Tracking and Reporting system at https://www.nrc.gov/reading-rm/doc-collections/rulemaking-ruleforum/active/RuleIndex.html, or by Docket ID NRC-2014-0264 at http://www.regulations.gov.

For more information, see the fees transformation accomplishments schedule, located on the NRC's license fees website: https://www.nrc.gov/about-nrc/regulatory/licensing/fees-transformation-accomplishments.html.

IV. Regulatory Flexibility Certification

As required by the Regulatory Flexibility Act of 1980, as amended (RFA),⁴ the NRC has prepared a regulatory flexibility analysis related to this proposed rule. The regulatory flexibility analysis is available as indicated in the “Availability of Documents” section of this document.

⁴ 5 U.S.C. 603. The RFA, 5 U.S.C. 601-612, has been amended by the Small Business Regulatory Enforcement Fairness Act of 1996, Pulic Law 104-121, Title II, 110 Stat. 847 (1996).

V. Regulatory Analysis

Under NEIMA, the NRC is required to recover, to the maximum extent practicable, approximately 100 percent of its annual budget for FY 2022 less the budget authority for excluded activities. The NRC established fee methodology guidelines for 10 CFR part 170 in 1978 and established additional fee methodology guidelines for 10 CFR part 171 in 1986. In subsequent rulemakings, the NRC has adjusted its fees without changing the underlying principles of its fee policy to ensure that the NRC continues to comply with the statutory requirements for cost recovery.

In this proposed rule, the NRC continues this longstanding approach. Therefore, the NRC did not identify any alternatives to the current fee structure guidelines and did not prepare a regulatory analysis for this proposed rule.

VI. Backfitting and Issue Finality

The NRC has determined that the backfit rule, § 50.109, does not apply to this proposed rule and that a backfit analysis is not required because these amendments do not require the modification of, or addition to, (1) systems, structures, components, or the design of a facility; (2) the design approval or manufacturing license for a facility; or (3) the procedures or organization required to design, construct, or operate a facility.

VII. Plain Writing

The Plain Writing Act of 2010 (Public Law 111-274) requires Federal agencies to write documents in a clear, concise, and well-organized manner. The NRC wrote this document to be consistent with the Plain Writing Act, as well as the Presidential Memorandum, “Plain Language in Government Writing,” published June 10, 1998 (63 FR 31885). The NRC requests comment on the clarity and effectiveness of the language used in this proposed rule.

VIII. National Environmental Policy Act

The NRC has determined that this proposed rule is the type of action described in § 51.22(c)(1). Therefore, neither an environmental impact statement nor environmental assessment has been prepared for this proposed rule.

IX. Paperwork Reduction Act

This proposed rule does not contain a collection of information as defined in the Paperwork Reduction Act of 1995 (44 U.S.C. 3501 et seq.) and, therefore, is not subject to the requirements of the Act.

Public Protection Notification

The NRC may not conduct or sponsor, and a person is not required to respond to, a collection of information unless the document requesting or requiring the collection displays a currently valid OMB control number.

X. Voluntary Consensus Standards

The National Technology Transfer and Advancement Act of 1995, Public Law 104-113, requires that Federal agencies use technical standards that are developed or adopted by voluntary consensus standards bodies unless the use of such a standard is inconsistent with applicable law or otherwise impractical. In this proposed rule, the NRC proposes to amend the licensing, inspection, and annual fees charged to its licensees and applicants, as necessary, to recover, to the maximum extent practicable, approximately 100 percent of its annual budget for FY 2022 less the budget authority for excluded activities, as required by NEIMA. This action does not constitute the establishment of a standard that contains generally applicable requirements.

XI. Availability of Guidance

The Small Business Regulatory Enforcement Fairness Act requires all Federal agencies to prepare a written compliance guide for each rule for which the agency is required by 5 U.S.C. 604 to prepare a regulatory flexibility analysis. The NRC, in compliance with the law, prepared the “Small Entity Compliance Guide” for the FY 2021 fee rule. The compliance guide was developed when the NRC completed the small entity biennial review for FY 2021. The NRC plans to continue to use this compliance guide for FY 2022 and has relabeled the compliance guide to reflect the current fiscal year. This compliance guide is available as indicated in the “Availability of Documents” section of this document.

XII. Public Meeting

The NRC will conduct a public meeting to describe the FY 2022 proposed rule and answer questions from the public on the proposed rule. The NRC will publish a notice of the location, time, and agenda of the meeting on the NRC's public meeting website within 10 calendar days of the meeting. Stakeholders should monitor the NRC's public meeting website for information about the public meeting at: http://www.nrc.gov/public-involve/public-meetings/index.cfm.

XIII. Availability of Documents

The documents identified in the following table are available to interested persons through one or more of the following methods, as indicated.

Documents | ADAMS accession No./FR citation/web link
NUREG-1100, Volume 37, “Congressional Budget Justification: Fiscal Year 2022” (June 2021) | ML21181A336.
FY 2022 Proposed Rule Work Papers | ML22032A035.
OMB Circular A-25, “User Charges” | https://www.whitehouse.gov/sites/whitehouse.gov/files/omb/assets/OMB/circulars/a025/a025.html.
“Revision of Fee Schedules; Fee Recovery for Fiscal Year 2021,” dated June 16, 2021 | 86 FR 32146.
“Public Interest Exemption from Provisions in the Fiscal Year 2021 Fee Rule that Require Fees for Import/Export Licensing Actions,” dated August 20, 2021 | ML21209A553.
SECY-05-0164, “Annual Fee Calculation Method,” dated September 15, 2005 | ML052580332.
“Revision of Fee Schedules; Fee Recovery for Fiscal Year 2015,” dated June 30, 2015 | 80 FR 37432.
“Variable Annual Fee Structure for Small Modular Reactors,” dated May 24, 2016 | 81 FR 32617.
“Revision of Fee Schedules; 100% Fee Recovery, FY 1999,” dated June 10, 1999 | 64 FR 31447.
“Revision of Fee Schedules; Fee Recovery for FY 2002,” dated June 24, 2002 | 67 FR 42625.
“Revision of Fee Schedules; Fee Recovery for FY 2006,” dated May 30, 2006 | 71 FR 30721.
SECY-16-0097, “Fee Setting Improvements and Fiscal Year 2017 Proposed Fee Rule,” dated August 15, 2016 | ML16194A365.
Staff Requirements Memorandum for SECY-16-0097, dated October 19, 2016 | ML16293A902.
“Receipts-Based NRC Size Standards,” dated July 26, 2021 | 86 FR 39980.
Fees Transformation Accomplishments | https://www.nrc.gov/about-nrc/regulatory/licensing/fees-transformation-accomplishments.html.
FY 2022 Regulatory Flexibility Analysis | ML21363A153.
FY 2022 U.S. Nuclear Regulatory Commission Small Entity Compliance Guide | ML21347A005.

List of Subjects

10 CFR Part 170

Byproduct material, Import and export licenses, Intergovernmental relations, Non-payment penalties, Nuclear energy, Nuclear materials, Nuclear power plants and reactors, Source material, Special nuclear material.

10 CFR Part 171

Annual charges, Approvals, Byproduct material, Holders of certificates, Intergovernmental relations, Nonpayment penalties, Nuclear materials, Nuclear power plants and reactors, Registrations, Source material, Special nuclear material.

For the reasons set out in the preamble and under the authority of the Atomic Energy Act of 1954, as amended; the Energy Reorganization Act of 1974, as amended; and 5 U.S.C. 552 and 553, the NRC is proposing to amend 10 CFR parts 170 and 171:

PART 170—FEES FOR FACILITIES, MATERIALS, IMPORT AND EXPORT LICENSES, AND OTHER REGULATORY SERVICES UNDER THE ATOMIC ENERGY ACT OF 1954, AS AMENDED

1. The authority citation for part 170 continues to read as follows:

Authority: Atomic Energy Act of 1954, secs. 11, 161(w) (42 U.S.C. 2014, 2201(w)); Energy Reorganization Act of 1974, sec. 201 (42 U.S.C. 5841); 42 U.S.C. 2215; 31 U.S.C. 901, 902, 9701; 44 U.S.C. 3504 note.

§ 170.3 [Amended]

2. In § 170.3, remove the definition for “Review is completed”.

3. In § 170.11:

a. Revise paragraphs (a)(1) and (c); and

b. Redesignate paragraph (a)(13) as paragraph (d).

The revisions read as follows:

§ 170.11 Exemptions.

(a) * * *

(1) A special project that is a request/report submitted to the NRC—

(i) In response to a generic letter or NRC bulletin, where the request/report does not result in an amendment to the license, does not result in the review of an alternate method or reanalysis to meet the requirements of the generic letter, or does not involve an unreviewed safety issue;

(ii) When the NRC, at the time the request/report is submitted, plans to use the information to assist the NRC in generic regulatory improvements or efforts (e.g., rules, regulatory guides, regulations, policy statements, generic letters, or bulletins); or

(iii) When the NRC, at the time the request/report is submitted, plans to use the information in response to an NRC request from the Office Director level or above to resolve an identified safety, safeguards, or environmental issue.

* * * * *

(c) For purposes of paragraph (a)(1) of this section, a request for a fee exemption must be submitted to the Chief Financial Officer within 90 days of the date of the NRC's receipt of the request/report.

* * * * *

4. In § 170.12, revise paragraphs (b)(3) and (f) to read as follows.

§ 170.12 Payment of fees.

* * * * *

(b) * * *

(3) The NRC intends to bill each applicant or licensee at quarterly intervals for all accumulated costs for each application the applicant or licensee has on file for NRC review, until the review has been brought to an end, whether by issuance of a permit, license, approval, certificate, exemption, or other form of permission; by denial, withdrawal, or suspension of review of the application; or by postponement of action on the application by the applicant.

* * * * *

(f) Method of payment. All fee payments under 10 CFR part 170 are to be made payable to the U.S. Nuclear Regulatory Commission. The payments are to be made in U.S. funds by electronic funds transfer such as ACH (Automated Clearing House) using E.D.I. (Electronic Data Interchange), check, draft, money order, or credit card (submit electronic payment at www.Pay.gov or manual payment using the NRC Form 629, “Authorization for Payment by Credit Card”). Payment of invoices of $5,000 or more should be paid via ACH through the NRC's Lockbox Bank at the address indicated on the invoice. Credit card payments should be made up to the limit established by the credit card bank at the address indicated on the invoice. Specific written instructions for making electronic payments and credit card payments may be obtained by contacting the Office of the Chief Financial Officer at 301-415-7554. In accordance with Department of the Treasury requirements, refunds will only be made upon receipt of information on the payee's financial institution and bank accounts.

* * * * *

§ 170.20 [Amended]

5. In § 170.20, remove the dollar amount “$288” and add in its place the dollar amount “$291”.

6. In § 170.21, in table 1, revise the table entry for “K, Import and export licenses” and add footnote 6 to read as follows:

§ 170.21 Schedule of fees for production and utilization facilities, review of standard referenced design approvals, special projects, inspections and import and export licenses.

* * * * *

Table 1 to § 170.21—Schedule of Facility Fees
[See footnotes at end of table]
Facility categories and type of fees | Fees ¹ ²
* * * * * * *
K. Import and export licenses: ⁶
Licenses for the import and export only of production or utilization facilities or the export only of components for production or utilization facilities issued under 10 CFR part 110. |
1. Application for import or export of production or utilization facilities ⁴ (including reactors and other facilities) and exports of components requiring Commission and Executive Branch review, for example, actions under 10 CFR 110.40(b). |
Application—new license, or amendment; or license exemption request | N/A
2. Application for export of reactor and other components requiring Executive Branch review, for example, those actions under 10 CFR 110.41(a). |
Application—new license, or amendment; or license exemption request | N/A
3. Application for export of components requiring the assistance of the Executive Branch to obtain foreign government assurances. |
Application—new license, or amendment; or license exemption request | N/A
4. Application for export of facility components and equipment not requiring Commission or Executive Branch review, or obtaining foreign government assurances. |
Application—new license, or amendment; or license exemption request | N/A
5. Minor amendment of any active export or import license, for example, to extend the expiration date, change domestic information, or make other revisions which do not involve any substantive changes to license terms or conditions or to the type of facility or component authorized for export and, therefore, do not require in-depth analysis or review or consultation with the Executive Branch, U.S. host state, or foreign government authorities. |
Minor amendment to license | N/A
¹ Fees will be charged for approvals issued under a specific exemption provision of the Commission's regulations under title 10 of the Code of Federal Regulations (e.g., 10 CFR 50.12, 10 CFR 73.5) and any other sections in effect now or in the future, regardless of whether the approval is in the form of a license amendment, letter of approval, safety evaluation report, or other form.
² Full cost fees will be determined based on the professional staff time and appropriate contractual support services expended. For applications currently on file and for which fees are determined based on the full cost expended for the review, the professional staff hours expended for the review of the application up to the effective date of the final rule will be determined at the professional rates in effect when the service was provided.
* * * * *
⁴ Imports only of major components for end-use at NRC-licensed reactors are authorized under NRC general import license in 10 CFR 110.27.
* * * * *
⁶ Because the resources for import and export licensing activities are identified as a fee-relief activity to be excluded from the fee-recoverable budget, import and export licensing actions will not incur fees.

7. In § 170.31, revise table 1 to read as follows:

§ 170.31 Schedule of fees for materials licenses and other regulatory services, including inspections, and import and export licenses.

* * * * *

Table 1 to § 170.31—Schedule of Materials Fees
[See footnotes at end of table]
Category of materials licenses and type of fees ¹ | Fees ² ³
1. Special nuclear material: ¹¹
A. (1) Licenses for possession and use of U-235 or plutonium for fuel fabrication activities. |
(a) Strategic Special Nuclear Material (High Enriched Uranium) ⁶ [Program Code(s): 21213] | Full Cost.
(b) Low Enriched Uranium in Dispersible Form Used for Fabrication of Power Reactor Fuel ⁶ [Program Code(s): 21210] | Full Cost.
(2) All other special nuclear materials licenses not included in Category 1.A. (1) which are licensed for fuel cycle activities.⁶ |
(a) Facilities with limited operations ⁶ [Program Code(s): 21240, 21310, 21320] | Full Cost.
(b) Gas centrifuge enrichment demonstration facilities.⁶ [Program Code(s): 21205] | Full Cost.
(c) Others, including hot cell facilities.⁶ [Program Code(s): 21130, 21133] | Full Cost.
B. Licenses for receipt and storage of spent fuel and reactor-related Greater than Class C (GTCC) waste at an independent spent fuel storage installation (ISFSI) ⁶ [Program Code(s): 23200] | Full Cost.
C. Licenses for possession and use of special nuclear material of less than a critical mass as defined in § 70.4 of this chapter in sealed sources contained in devices used in industrial measuring systems, including x-ray fluorescence analyzers.⁴
Application [Program Code(s): 22140] | $1,300.
D. All other special nuclear material licenses, except licenses authorizing special nuclear material in sealed or unsealed form in combination that would constitute a critical mass, as defined in § 70.4 of this chapter, for which the licensee shall pay the same fees as those under Category 1.A.⁴
Application [Program Code(s): 22110, 22111, 22120, 22131, 22136, 22150, 22151, 22161, 22170, 23100, 23300, 23310] | $2,700.
E. Licenses or certificates for construction and operation of a uranium enrichment facility ⁶ [Program Code(s): 21200] | Full Cost.
F. Licenses for possession and use of special nuclear material greater than critical mass as defined in § 70.4 of this chapter, for development and testing of commercial products, and other non-fuel-cycle activities.⁴ ⁶ [Program Code(s): 22155] | Full Cost.
2. Source material: ¹¹
A. (1) Licenses for possession and use of source material for refining uranium mill concentrates to uranium hexafluoride or for deconverting uranium hexafluoride in the production of uranium oxides for disposal.⁶ [Program Code(s): 11400] | Full Cost.
(2) Licenses for possession and use of source material in recovery operations such as milling, in-situ recovery, heap-leaching, ore buying stations, ion-exchange facilities, and in processing of ores containing source material for extraction of metals other than uranium or thorium, including licenses authorizing the possession of byproduct waste material (tailings) from source material recovery operations, as well as licenses authorizing the possession and maintenance of a facility in a standby mode.⁶ |
(a) Conventional and Heap Leach facilities ⁶ [Program Code(s): 11100] | Full Cost.
(b) Basic In Situ Recovery facilities ⁶ [Program Code(s): 11500] | Full Cost.
(c) Expanded In Situ Recovery facilities ⁶ [Program Code(s): 11510] | Full Cost.
(d) In Situ Recovery Resin facilities ⁶ [Program Code(s): 11550] | Full Cost.
(e) Resin Toll Milling facilities ⁶ [Program Code(s): 11555] | Full Cost.
(f) Other facilities ⁶ [Program Code(s): 11700] | Full Cost.
(3) Licenses that authorize the receipt of byproduct material, as defined in Section 11e.(2) of the Atomic Energy Act, from other persons for possession and disposal, except those licenses subject to the fees in Category 2.A.(2) or Category 2.A.(4) ⁶ [Program Code(s): 11600, 12000] | Full Cost.
(4) Licenses that authorize the receipt of byproduct material, as defined in Section 11e.(2) of the Atomic Energy Act, from other persons for possession and disposal incidental to the disposal of the uranium waste tailings generated by the licensee's milling operations, except those licenses subject to the fees in Category 2.A.(2) ⁶ [Program Code(s): 12010] | Full Cost.
B. Licenses which authorize the possession, use, and/or installation of source material for shielding.⁷ ⁸
Application [Program Code(s): 11210] | $1,300
C. Licenses to distribute items containing source material to persons exempt from the licensing requirements of part 40 of this chapter.
Application [Program Code(s): 11240] | $6,200.
D. Licenses to distribute source material to persons generally licensed under part 40 of this chapter.
Application [Program Code(s): 11230, 11231] | $2,900.
E. Licenses for possession and use of source material for processing or manufacturing of products or materials containing source material for commercial distribution.
Application [Program Code(s): 11710] | $2,800.
F. All other source material licenses.
Application [Program Code(s): 11200, 11220, 11221, 11300, 11800, 11810, 11820] | $2,800.
3. Byproduct material: ¹¹
A. Licenses of broad scope for the possession and use of byproduct material issued under parts 30 and 33 of this chapter for processing or manufacturing of items containing byproduct material for commercial distribution. Number of locations of use: 1-5.
Application [Program Code(s): 03211, 03212, 03213] | $13,600.
(1). Licenses of broad scope for the possession and use of byproduct material issued under parts 30 and 33 of this chapter for processing or manufacturing of items containing byproduct material for commercial distribution. Number of locations of use: 6-20.
Application [Program Code(s): 04010, 04012, 04014] | $18,100.
(2). Licenses of broad scope for the possession and use of byproduct material issued under parts 30 and 33 of this chapter for processing or manufacturing of items containing byproduct material for commercial distribution. Number of locations of use: more than 20.
Application [Program Code(s): 04011, 04013, 04015] | $22,600.
B. Other licenses for possession and use of byproduct material issued under part 30 of this chapter for processing or manufacturing of items containing byproduct material for commercial distribution. Number of locations of use: 1-5.
Application [Program Code(s): 03214, 03215, 22135, 22162] | $3,700.
(1). Other licenses for possession and use of byproduct material issued under part 30 of this chapter for processing or manufacturing of items containing byproduct material for commercial distribution. Number of locations of use: 6-20.
Application [Program Code(s): 04110, 04112, 04114, 04116] | $5,000.
(2). Other licenses for possession and use of byproduct material issued under part 30 of this chapter for processing or manufacturing of items containing byproduct material for commercial distribution. Number of locations of use: more than 20.
Application [Program Code(s): 04111, 04113, 04115, 04117] | $6,200.
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 1-5.
Application [Program Code(s): 02500, 02511, 02513] | $5,400.
(1). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 6-20.
Application [Program Code(s): 04210, 04212, 04214] | $7,200.
(2). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: more than 20.
Application [Program Code(s): 04211, 04213, 04215] | $9,000.
D. [Reserved] | N/A.
E. Licenses for possession and use of byproduct material in sealed sources for irradiation of materials in which the source is not removed from its shield (self-shielded units).
Application [Program Code(s): 03510, 03520] | $3,300.
F. Licenses for possession and use of less than or equal to 10,000 curies of byproduct material in sealed sources for irradiation of materials in which the source is exposed for irradiation purposes. This category also includes underwater irradiators for irradiation of materials where the source is not exposed for irradiation purposes.
Application [Program Code(s): 03511] | $6,800.
G. Licenses for possession and use of greater than 10,000 curies of byproduct material in sealed sources for irradiation of materials in which the source is exposed for irradiation purposes. This category also includes underwater irradiators for irradiation of materials where the source is not exposed for irradiation purposes.
Application [Program Code(s): 03521] | $64,900.
H. Licenses issued under subpart A of part 32 of this chapter to distribute items containing byproduct material that require device review to persons exempt from the licensing requirements of part 30 of this chapter. The category does not include specific licenses authorizing redistribution of items that have been authorized for distribution to persons exempt from the licensing requirements of part 30 of this chapter.
Application [Program Code(s): 03254, 03255, 03257] | $6,900.
I. Licenses issued under subpart A of part 32 of this chapter to distribute items containing byproduct material or quantities of byproduct material that do not require device evaluation to persons exempt from the licensing requirements of part 30 of this chapter. This category does not include specific licenses authorizing redistribution of items that have been authorized for distribution to persons exempt from the licensing requirements of part 30 of this chapter.
Application [Program Code(s): 03250, 03251, 03253, 03256] | $15,500.
J. Licenses issued under subpart B of part 32 of this chapter to distribute items containing byproduct material that require sealed source and/or device review to persons generally licensed under part 31 of this chapter. This category does not include specific licenses authorizing redistribution of items that have been authorized for distribution to persons generally licensed under part 31 of this chapter.
Application [Program Code(s): 03240, 03241, 03243] | $2,100.
K. Licenses issued under subpart B of part 32 of this chapter to distribute items containing byproduct material or quantities of byproduct material that do not require sealed source and/or device review to persons generally licensed under part 31 of this chapter. This category does not include specific licenses authorizing redistribution of items that have been authorized for distribution to persons generally licensed under part 31 of this chapter.
Application [Program Code(s): 03242, 03244] | $1,200.
L. Licenses of broad scope for possession and use of byproduct material issued under parts 30 and 33 of this chapter for research and development that do not authorize commercial distribution. Number of locations of use: 1-5.
Application [Program Code(s): 01100, 01110, 01120, 03610, 03611, 03612, 03613] | $5,700.
(1) Licenses of broad scope for possession and use of byproduct material issued under parts 30 and 33 of this chapter for research and development that do not authorize commercial distribution. Number of locations of use: 6-20.
Application [Program Code(s): 04610, 04612, 04614, 04616, 04618, 04620, 04622] | $7,600.
(2) Licenses of broad scope for possession and use of byproduct material issued under parts 30 and 33 of this chapter for research and development that do not authorize commercial distribution. Number of locations of use: More than 20.
Application [Program Code(s): 04611, 04613, 04615, 04617, 04619, 04621, 04623] | $9,500.
M. Other licenses for possession and use of byproduct material issued under part 30 of this chapter for research and development that do not authorize commercial distribution.
Application [Program Code(s): 03620] | $8,700.
N. Licenses that authorize services for other licensees, except:
(1) Licenses that authorize only calibration and/or leak testing services are subject to the fees specified in fee Category 3.P.; and
(2) Licenses that authorize waste disposal services are subject to the fees specified in fee Categories 4.A., 4.B., and 4.C.¹³
Application [Program Code(s): 03219, 03225, 03226] | $9,300.
O. Licenses for possession and use of byproduct material issued under part 34 of this chapter for industrial radiography operations. Number of locations of use: 1-5.
Application [Program Code(s): 03310, 03320] | $9,200.
(1). Licenses for possession and use of byproduct material issued under part 34 of this chapter for industrial radiography operations. Number of locations of use: 6-20.
Application [Program Code(s): 04310, 04312] | $12,300.
(2). Licenses for possession and use of byproduct material issued under part 34 of this chapter for industrial radiography operations. Number of locations of use: more than 20.
Application [Program Code(s): 04311, 04313] | $15,400.
P. All other specific byproduct material licenses, except those in Categories 4.A. through 9.D.⁹ Number of locations of use: 1-5.
Application [Program Code(s): 02400, 02410, 03120, 03121, 03122, 03123, 03124, 03130, 03140, 03220, 03221, 03222, 03800, 03810, 22130] | $6,600.
(1). All other specific byproduct material licenses, except those in Categories 4.A. through 9.D.⁹ Number of locations of use: 6-20.
Application [Program Code(s): 04410, 04412, 04414, 04416, 04418, 04420, 04422, 04424, 04426, 04428, 04430, 04432, 04434, 04436, 04438] | $8,800.
(2). All other specific byproduct material licenses, except those in Categories 4.A. through 9.D.⁹ Number of locations of use: More than 20.
Application [Program Code(s): 04411, 04413, 04415, 04417, 04419, 04421, 04423, 04425, 04427, 04429, 04431, 04433, 04435, 04437, 04439] | $11,000.
Q. Registration of a device(s) generally licensed under part 31 of this chapter.
Registration | $400.
R. Possession of items or products containing radium-226 identified in § 31.12 of this chapter which exceed the number of items or limits specified in that section.⁵
1. Possession of quantities exceeding the number of items or limits in § 31.12(a)(4) or (5) of this chapter but less than or equal to 10 times the number of items or limits specified.
Application [Program Code(s): 02700] | $2,700.
2. Possession of quantities exceeding 10 times the number of items or limits specified in § 31.12(a)(4) or (5) of this chapter.
Application [Program Code(s): 02710] | $2,600.
S. Licenses for production of accelerator-produced radionuclides.
Application [Program Code(s): 03210] | $14,900.
4. Waste disposal and processing: ¹¹
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material.
Application [Program Code(s): 03231, 03233, 03236, 06100, 06101] | Full Cost.
B. Licenses specifically authorizing the receipt of waste byproduct material, source material, or special nuclear material from other persons for the purpose of packaging or repackaging the material. The licensee will dispose of the material by transfer to another person authorized to receive or dispose of the material.
Application [Program Code(s): 03234] | $7,200.
C. Licenses specifically authorizing the receipt of prepackaged waste byproduct material, source material, or special nuclear material from other persons. The licensee will dispose of the material by transfer to another person authorized to receive or dispose of the material.
Application [Program Code(s): 03232] | $5,200.
5. Well logging: ¹¹ | $4,800.
A. Licenses for possession and use of byproduct material, source material, and/or special nuclear material for well logging, well surveys, and tracer studies other than field flooding tracer studies.
Application [Program Code(s): 03110, 03111, 03112]
B. Licenses for possession and use of byproduct material for field flooding tracer studies.
Licensing [Program Code(s): 03113] | Full Cost.
6. Nuclear laundries: ¹¹
A. Licenses for commercial collection and laundry of items contaminated with byproduct material, source material, or special nuclear material.
Application [Program Code(s): 03218] | $23,200.
7. Medical licenses: ¹¹
A. Licenses issued under parts 30, 35, 40, and 70 of this chapter for human use of byproduct material, source material, or special nuclear material in sealed sources contained in gamma stereotactic radiosurgery units, teletherapy devices, or similar beam therapy devices. Number of locations of use: 1-5.
Application [Program Code(s): 02300, 02310] | $11,600.
(1). Licenses issued under parts 30, 35, 40, and 70 of this chapter for human use of byproduct material, source material, or special nuclear material in sealed sources contained in gamma stereotactic radiosurgery units, teletherapy devices, or similar beam therapy devices. Number of locations of use: 6-20.
Application [Program Code(s): 04510, 04512] | $15,500.
(2). Licenses issued under parts 30, 35, 40, and 70 of this chapter for human use of byproduct material, source material, or special nuclear material in sealed sources contained in gamma stereotactic radiosurgery units, teletherapy devices, or similar beam therapy devices. Number of locations of use: More than 20.
Application [Program Code(s): 04511, 04513] | $19,300.
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: 1-5.
Application [Program Code(s): 02110] | $9,100.
(1). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: 6-20.
Application [Program Code(s): 04710] | $12,100.
(2). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: more than 20.
Application [Program Code(s): 04711] | $15,100.
C. Other licenses issued under parts 30, 35, 40, and 70 of this chapter for human use of byproduct material, source material, and/or special nuclear material, except licenses for byproduct material, source material, or special nuclear material in sealed sources contained in teletherapy devices.¹⁰ Number of locations of use: 1-5.
Application [Program Code(s): 02120, 02121, 02200, 02201, 02210, 02220, 02230, 02231, 02240, 22160] | $11,000.
(1). Other licenses issued under parts 30, 35, 40, and 70 of this chapter for human use of byproduct material, source material, and/or special nuclear material, except licenses for byproduct material, source material, or special nuclear material in sealed sources contained in teletherapy devices.¹⁰ Number of locations of use: 6-20.
Application [Program Code(s): 04810, 04812, 04814, 04816, 04818, 04820, 04822, 04824, 04826, 04828] | $9,100.
(2). Other licenses issued under parts 30, 35, 40, and 70 of this chapter for human use of byproduct material, source material, and/or special nuclear material, except licenses for byproduct material, source material, or special nuclear material in sealed sources contained in teletherapy devices.¹⁰ Number of locations of use: More than 20.
Application [Program Code(s): 04811, 04813, 04815, 04817, 04819, 04821, 04823, 04825, 04827, 04829] | $11,400.
8. Civil defense: ¹¹
A. Licenses for possession and use of byproduct material, source material, or special nuclear material for civil defense activities.
Application [Program Code(s): 03710] | $2,700.
9. Device, product, or sealed source safety evaluation:
A. Safety evaluation of devices or products containing byproduct material, source material, or special nuclear material, except reactor fuel devices, for commercial distribution.
Application—each device | $18,100.
B. Safety evaluation of devices or products containing byproduct material, source material, or special nuclear material manufactured in accordance with the unique specifications of, and for use by, a single applicant, except reactor fuel devices.
Application—each device | $9,400.
C. Safety evaluation of sealed sources containing byproduct material, source material, or special nuclear material, except reactor fuel, for commercial distribution.
Application—each source | $5,500.
D. Safety evaluation of sealed sources containing byproduct material, source material, or special nuclear material, manufactured in accordance with the unique specifications of, and for use by, a single applicant, except reactor fuel.
Application—each source | $1,100
10. Transportation of radioactive material:
A. Evaluation of casks, packages, and shipping containers.
1. Spent Fuel, High-Level Waste, and plutonium air packages | Full Cost.
2. Other Casks | Full Cost.
B. Quality assurance program approvals issued under part 71 of this chapter.
1. Users and Fabricators.
Application | $4,400.
Inspections | Full Cost.
2. Users.
Application | $4,400.
Inspections | Full Cost.
C. Evaluation of security plans, route approvals, route surveys, and transportation security devices (including immobilization devices). | Full Cost.
11. Review of standardized spent fuel facilities | Full Cost.
12. Special projects:
Including approvals, pre-application/licensing activities, and inspections.
Application [Program Code: 25110] | Full Cost.
13. A. Spent fuel storage cask Certificate of Compliance. | Full Cost.
B. Inspections related to storage of spent fuel under § 72.210 of this chapter. | Full Cost.
14. Decommissioning/Reclamation: ¹¹
A. Byproduct, source, or special nuclear material licenses and other approvals authorizing decommissioning, decontamination, reclamation, or site restoration activities under parts 30, 40, 70, 72, and 76 of this chapter, including master materials licenses (MMLs). The transition to this fee category occurs when a licensee has permanently ceased principal activities. [Program Code(s): 03900, 11900, 21135, 21215, 21325, 22200] | Full Cost.
B. Site-specific decommissioning activities associated with unlicensed sites, including MMLs, regardless of whether or not the sites have been previously licensed. | Full Cost.
15. Import and Export licenses: ¹²
Licenses issued under part 110 of this chapter for the import and export only of special nuclear material, source material, tritium and other byproduct material, and the export only of heavy water, or nuclear grade graphite (fee categories 15.A. through 15.E.).
A. Application for export or import of nuclear materials, including radioactive waste requiring Commission and Executive Branch review, for example, those actions under § 110.40(b) of this chapter.
Application—new license, or amendment; or license exemption request | N/A.
B. Application for export or import of nuclear material, including radioactive waste, requiring Executive Branch review, but not Commission review. This category includes applications for the export and import of radioactive waste and requires the NRC to consult with domestic host state authorities (i.e., Low-Level Radioactive Waste Compact Commission, the U.S. Environmental Protection Agency, etc.).
Application—new license, or amendment; or license exemption request | N/A.
C. Application for export of nuclear material, for example, routine reloads of low enriched uranium reactor fuel and/or natural uranium source material requiring the assistance of the Executive Branch to obtain foreign government assurances.
Application—new license, or amendment; or license exemption request | N/A.
D. Application for export or import of nuclear material not requiring Commission or Executive Branch review, or obtaining foreign government assurances.
Application—new license, or amendment; or license exemption request | N/A.
E. Minor amendment of any active export or import license, for example, to extend the expiration date, change domestic information, or make other revisions which do not involve any substantive changes to license terms and conditions or to the type/quantity/chemical composition of the material authorized for export and, therefore, do not require in-depth analysis, review, or consultations with other Executive Branch, U.S. host state, or foreign government authorities.
Minor amendment | N/A.
Licenses issued under part 110 of this chapter for the import and export only of Category 1 and Category 2 quantities of radioactive material listed in appendix P to part 110 of this chapter (fee categories 15.F. through 15.R.).
Category 1 (Appendix P, 10 CFR Part 110) Exports:
F. Application for export of appendix P Category 1 materials requiring Commission review (e.g., exceptional circumstance review under § 110.42(e)(4) of this chapter) and to obtain one government-to-government consent for this process. For additional consent see fee category 15.I.
Application—new license, or amendment; or license exemption request | N/A.
G. Application for export of appendix P Category 1 materials requiring Executive Branch review and to obtain one government-to-government consent for this process. For additional consents see fee category 15.I.
Application—new license, or amendment; or license exemption request | N/A.
H. Application for export of appendix P Category 1 materials and to obtain one government-to-government consent for this process. For additional consents see fee category 15.I.
Application—new license, or amendment; or license exemption request | N/A.
I. Requests for each additional government-to-government consent in support of an export license application or active export license.
Application—new license, or amendment; or license exemption request | N/A.
Category 2 (Appendix P, 10 CFR Part 110) Exports:
J. Application for export of appendix P Category 2 materials requiring Commission review (e.g., exceptional circumstance review under § 110.42(e)(4) of this chapter).
Application—new license, or amendment; or license exemption request | N/A.
K. Applications for export of appendix P Category 2 materials requiring Executive Branch review.
Application—new license, or amendment; or license exemption request | N/A.
L. Application for the export of Category 2 materials.
Application—new license, or amendment; or license exemption request | N/A.
M. [Reserved] | N/A.
N. [Reserved] | N/A.
O. [Reserved] | N/A.
P. [Reserved] | N/A.
Q. [Reserved] | N/A.
Minor Amendments (Category 1 and 2, Appendix P, 10 CFR Part 110, Export):
R. Minor amendment of any active export license, for example, to extend the expiration date, change domestic information, or make other revisions which do not involve any substantive changes to license terms and conditions or to the type/quantity/chemical composition of the material authorized for export and, therefore, do not require in-depth analysis, review, or consultations with other Executive Branch, U.S. host state, or foreign authorities.
Minor amendment | N/A.
16. Reciprocity:
Agreement State licensees who conduct activities under the reciprocity provisions of § 150.20 of this chapter.
Application | $2,700.
17. Master materials licenses of broad scope issued to Government agencies.
Application [Program Code(s): 03614] | Full Cost.
18. Department of Energy.
A. Certificates of Compliance. Evaluation of casks, packages, and shipping containers (including spent fuel, high-level waste, and other casks, and plutonium air packages) | Full Cost
B. Uranium Mill Tailings Radiation Control Act (UMTRCA) activities. | Full Cost.
¹ Types of fees—Separate charges, as shown in the schedule, will be assessed for pre-application consultations and reviews; applications for new licenses, approvals, or license terminations; possession-only licenses; issuances of new licenses and approvals; certain amendments and renewals to existing licenses and approvals; safety evaluations of sealed sources and devices; generally licensed device registrations; and certain inspections. The following guidelines apply to these charges:
(1) Application and registration fees. Applications for new materials licenses and export and import licenses; applications to reinstate expired, terminated, or inactive licenses, except those subject to fees assessed at full costs; applications filed by Agreement State licensees to register under the general license provisions of 10 CFR 150.20; and applications for amendments to materials licenses that would place the license in a higher fee category or add a new fee category must be accompanied by the prescribed application fee for each category.
(i) Applications for licenses covering more than one fee category of special nuclear material or source material must be accompanied by the prescribed application fee for the highest fee category.
(ii) Applications for new licenses that cover both byproduct material and special nuclear material in sealed sources for use in gauging devices will pay the appropriate application fee for fee category 1.C. only.
(2) Licensing fees. Fees for reviews of applications for new licenses, renewals, and amendments to existing licenses, pre-application consultations and other documents submitted to the NRC for review, and project manager time for fee categories subject to full cost fees are due upon notification by the Commission in accordance with § 170.12(b).
(3) Amendment fees. Applications for amendments to export and import licenses must be accompanied by the prescribed amendment fee for each license affected. An application for an amendment to an export or import license or approval classified in more than one fee category must be accompanied by the prescribed amendment fee for the category affected by the amendment, unless the amendment is applicable to two or more fee categories, in which case the amendment fee for the highest fee category would apply.
(4) Inspection fees. Inspections resulting from investigations conducted by the Office of Investigations and nonroutine inspections that result from third-party allegations are not subject to fees. Inspection fees are due upon notification by the Commission in accordance with § 170.12(c).
(5) Generally licensed device registrations under 10 CFR 31.5. Submittals of registration information must be accompanied by the prescribed fee.
² Fees will be charged for approvals issued under a specific exemption provision of the Commission's regulations under title 10 of the Code of Federal Regulations (e.g., 10 CFR 30.11, 40.14, 70.14, 73.5, and any other sections in effect now or in the future), regardless of whether the approval is in the form of a license amendment, letter of approval, safety evaluation report, or other form. In addition to the fee shown, an applicant may be assessed an additional fee for sealed source and device evaluations as shown in fee categories 9.A. through 9.D.
³ Full cost fees will be determined based on the professional staff time multiplied by the appropriate professional hourly rate established in § 170.20 in effect when the service is provided, and the appropriate contractual support services expended.
⁴ Licensees paying fees under categories 1.A., 1.B., and 1.E. are not subject to fees under categories 1.C., 1.D. and 1.F. for sealed sources authorized in the same license, except for an application that deals only with the sealed sources authorized by the license.
⁵ Persons who possess radium sources that are used for operational purposes in another fee category are not also subject to the fees in this category. (This exception does not apply if the radium sources are possessed for storage only.)
⁶ Licensees subject to fees under fee categories 1.A., 1.B., 1.E., or 2.A. must pay the largest applicable fee and are not subject to additional fees listed in this table.
⁷ Licensees paying fees under 3.C., 3.C.1, or 3.C.2 are not subject to fees under 2.B. for possession and shielding authorized on the same license.
⁸ Licensees paying fees under 7.C. are not subject to fees under 2.B. for possession and shielding authorized on the same license.
⁹ Licensees paying fees under 3.N. are not subject to paying fees under 3.P., 3.P.1, or 3.P.2 for calibration or leak testing services authorized on the same license.
¹⁰ Licensees paying fees under 7.B., 7.B.1, or 7.B.2 are not subject to paying fees under 7.C., 7.C.1, or 7.C.2. for broad scope licenses issued under parts 30, 35, 40, and 70 of this chapter for human use of byproduct material, source material, and/or special nuclear material, except licenses for byproduct material, source material, or special nuclear material in sealed sources contained in teletherapy devices authorized on the same license.
¹¹ A materials license (or part of a materials license) that transitions to fee category 14.A is assessed full-cost fees under 10 CFR part 170, but is not assessed an annual fee under 10 CFR part 171. If only part of a materials license is transitioned to fee category 14.A, the licensee may be charged annual fees (and any applicable 10 CFR part 170 fees) for other activities authorized under the license that are not in decommissioning status.
¹² Because the resources for import and export licensing activities are identified as a fee-relief activity to be excluded from the fee-recoverable budget, import and export licensing actions will not incur fees.
¹³ Licensees paying fees under 4.A., 4.B. or 4.C. are not subject to paying fees under 3.N. licenses that authorize services for other licensees authorized on the same license.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

8. The authority citation for part 171 continues to read as follows:

Authority: Atomic Energy Act of 1954, secs. 11, 161(w), 223, 234 (42 U.S.C. 2014, 2201(w), 2273, 2282); Energy Reorganization Act of 1974, sec. 201 (42 U.S.C. 5841); 42 U.S.C. 2215; 44 U.S.C. 3504 note.

9. In § 171.15, revise paragraphs (b)(1), (b)(2) introductory text, (c)(1), (c)(2) introductory text, and (e) to read as follows:

§ 171.15 Annual fees: Non-power production or utilization licenses, reactor licenses, and independent spent fuel storage licenses.

* * * * *

(b)(1) The FY 2022 annual fee for each operating power reactor that must be collected by September 30, 2022, is $5,165,000.

(2) The FY 2022 annual fees are comprised of a base annual fee for power reactors licensed to operate, a base spent fuel storage/reactor decommissioning annual fee and associated additional charges. The activities comprising the spent fuel storage/reactor decommissioning base annual fee are shown in paragraphs (c)(2)(i) and (ii) of this section. The activities comprising the FY 2022 base annual fee for operating power reactors are as follows:

* * * * *

(c)(1) The FY 2022 annual fee for each power reactor holding a 10 CFR part 50 license or combined license issued under 10 CFR part 52 that is in a decommissioning or possession-only status and has spent fuel onsite, and for each independent spent fuel storage 10 CFR part 72 licensee who does not hold a 10 CFR part 50 license or a 10 CFR part 52 combined license, is $254,000.

(2) The FY 2022 annual fee is comprised of a base spent fuel storage/reactor decommissioning annual fee (which is also included in the operating power reactor annual fee shown in paragraph (b) of this section). The activities comprising the FY 2022 spent fuel storage/reactor decommissioning rebaselined annual fee are:

* * * * *

(e) The FY 2022 annual fee for licensees authorized to operate one or more non-power production or utilization facilities under a single 10 CFR part 50 license, unless the reactor is exempted from fees under § 171.11(b), is $93,000.

10. In § 171.16, revise paragraphs (b) introductory text and (d) to read as follows:

§ 171.16 Annual fees: Materials licensees, holders of certificates of compliance, holders of sealed source and device registrations, holders of quality assurance program approvals, and government agencies licensed by the NRC.

* * * * *

(b) The FY 2022 annual fee is comprised of a base annual fee and associated additional charges. The base FY 2022 annual fee is the sum of budgeted costs for the following activities:

* * * * *

(d) The FY 2022 annual fees for materials licensees and holders of certificates, registrations, or approvals subject to fees under this section are shown in table 2 to this paragraph (d):

Table 2 to Paragraph (d)—Schedule of Materials Annual Fees and Fees for Government Agencies Licensed by NRC
[See footnotes at end of table]
Category of materials licenses | Annual fees ¹ ² ³
1. Special nuclear material:
A.(1) Licenses for possession and use of U-235 or plutonium for fuel fabrication activities |
(a) Strategic Special Nuclear Material (High Enriched Uranium) ¹⁵ [Program Code(s): 21213] | $4,441,000
(b) Low Enriched Uranium in Dispersible Form Used for Fabrication of Power Reactor Fuel ¹⁵ [Program Code(s): 21210] | $1,505,000
(2) All other special nuclear materials licenses not included in Category 1.A.(1) which are licensed for fuel cycle activities |
(a) Facilities with limited operations ¹⁵ [Program Code(s): 21310, 21320] | $992,000
(b) Gas centrifuge enrichment demonstration facility ¹⁵ [Program Code(s): 21205] | N/A
(c) Others, including hot cell facility ¹⁵ [Program Code(s): 21130, 21133] | N/A
B. Licenses for receipt and storage of spent fuel and reactor-related Greater than Class C (GTCC) waste at an independent spent fuel storage installation (ISFSI) ¹¹ ¹⁵ [Program Code(s): 23200] | N/A
C. Licenses for possession and use of special nuclear material of less than a critical mass, as defined in § 70.4 of this chapter, in sealed sources contained in devices used in industrial measuring systems, including x-ray fluorescence analyzers. [Program Code(s): 22140] | $2,400
D. All other special nuclear material licenses, except licenses authorizing special nuclear material in sealed or unsealed form in combination that would constitute a critical mass, as defined in § 70.4 of this chapter, for which the licensee shall pay the same fees as those under Category 1.A. [Program Code(s): 22110, 22111, 22120, 22131, 22136, 22150, 22151, 22161, 22170, 23100, 23300, 23310] | $5,900
E. Licenses or certificates for the operation of a uranium enrichment facility ¹⁵ [Program Code(s): 21200] | $1,935,000
F. Licenses for possession and use of special nuclear materials greater than critical mass, as defined in § 70.4 of this chapter, for development and testing of commercial products, and other non-fuel cycle activities.⁴ [Program Code: 22155] | $4,400
2. Source material:
A.(1) Licenses for possession and use of source material for refining uranium mill concentrates to uranium hexafluoride or for deconverting uranium hexafluoride in the production of uranium oxides for disposal.¹⁵ [Program Code: 11400] | $447,000
(2) Licenses for possession and use of source material in recovery operations such as milling, in-situ recovery, heap-leaching, ore buying stations, ion-exchange facilities and in-processing of ores containing source material for extraction of metals other than uranium or thorium, including licenses authorizing the possession of byproduct waste material (tailings) from source material recovery operations, as well as licenses authorizing the possession and maintenance of a facility in a standby mode
(a) Conventional and Heap Leach facilities.¹⁵ [Program Code(s): 11100] | N/A
(b) Basic In Situ Recovery facilities.¹⁵ [Program Code(s): 11500] | $47,000
(c) Expanded In Situ Recovery facilities ¹⁵ [Program Code(s): 11510] | N/A
(d) In Situ Recovery Resin facilities.¹⁵ [Program Code(s): 11550] | ⁵ N/A
(e) Resin Toll Milling facilities.¹⁵ [Program Code(s): 11555] | ⁵ N/A
(f) Other facilities ⁶ [Program Code(s): 11700] | ⁵ N/A
(3) Licenses that authorize the receipt of byproduct material, as defined in Section 11e.(2) of the Atomic Energy Act, from other persons for possession and disposal, except those licenses subject to the fees in Category 2.A.(2) or Category 2.A.(4) ¹⁵ [Program Code(s): 11600, 12000] | ⁵ N/A
(4) Licenses that authorize the receipt of byproduct material, as defined in Section 11e.(2) of the Atomic Energy Act, from other persons for possession and disposal incidental to the disposal of the uranium waste tailings generated by the licensee's milling operations, except those licenses subject to the fees in Category 2.A.(2) ¹⁵ [Program Code(s): 12010] | N/A
B. Licenses which authorize the possession, use, and/or installation of source material for shielding.¹⁶ ¹⁷ Application [Program Code(s): 11210] | $2,700
C. Licenses to distribute items containing source material to persons exempt from the licensing requirements of part 40 of this chapter. [Program Code: 11240] | $9,000
D. Licenses to distribute source material to persons generally licensed under part 40 of this chapter. [Program Code(s): 11230 and 11231] | $5,100
E. Licenses for possession and use of source material for processing or manufacturing of products or materials containing source material for commercial distribution. [Program Code: 11710] | $6,500
F. All other source material licenses. [Program Code(s): 11200, 11220, 11221, 11300, 11800, 11810, 11820] | $8,800
3. Byproduct material:
A. Licenses of broad scope for possession and use of byproduct material issued under parts 30 and 33 of this chapter for processing or manufacturing of items containing byproduct material for commercial distribution. Number of locations of use: 1-5. [Program Code(s): 03211, 03212, 03213] | $28,000
(1). Licenses of broad scope for the possession and use of byproduct material issued under parts 30 and 33 of this chapter for processing or manufacturing of items containing byproduct material for commercial distribution. Number of locations of use: 6-20. [Program Code(s): 04010, 04012, 04014] | $37,100
(2). Licenses of broad scope for the possession and use of byproduct material issued under parts 30 and 33 of this chapter for processing or manufacturing of items containing byproduct material for commercial distribution. Number of locations of use: More than 20. [Program Code(s): 04011, 04013, 04015] | $46,300
B. Other licenses for possession and use of byproduct material issued under part 30 of this chapter for processing or manufacturing of items containing byproduct material for commercial distribution. Number of locations of use: 1-5. [Program Code(s): 03214, 03215, 22135, 22162] | $9,800
(1). Other licenses for possession and use of byproduct material issued under part 30 of this chapter for processing or manufacturing of items containing byproduct material for commercial distribution. Number of locations of use: 6-20. [Program Code(s): 04110, 04112, 04114, 04116] | $13,000
(2). Other licenses for possession and use of byproduct material issued under part 30 of this chapter for processing or manufacturing of items containing byproduct material for commercial distribution. Number of locations of use: More than 20. [Program Code(s): 04111, 04113, 04115, 04117] | $16,100
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4) of this chapter. Number of locations of use: 1-5. [Program Code(s): 02500, 02511, 02513] | $9,200
(1). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 6-20. [Program Code(s): 04210, 04212, 04214] | $12,100
(2). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: More than 20. [Program Code(s): 04211, 04213, 04215] | $16,600
D. [Reserved] | ⁵ N/A
E. Licenses for possession and use of byproduct material in sealed sources for irradiation of materials in which the source is not removed from its shield (self-shielded units). [Program Code(s): 03510, 03520] | $10,100
F. Licenses for possession and use of less than or equal to 10,000 curies of byproduct material in sealed sources for irradiation of materials in which the source is exposed for irradiation purposes. This category also includes underwater irradiators for irradiation of materials in which the source is not exposed for irradiation purposes. [Program Code(s): 03511] | $9,100
G. Licenses for possession and use of greater than 10,000 curies of byproduct material in sealed sources for irradiation of materials in which the source is exposed for irradiation purposes. This category also includes underwater irradiators for irradiation of materials in which the source is not exposed for irradiation purposes. [Program Code(s): 03521] | $73,000
H. Licenses issued under subpart A of part 32 of this chapter to distribute items containing byproduct material that require device review to persons exempt from the licensing requirements of part 30 of this chapter, except specific licenses authorizing redistribution of items that have been authorized for distribution to persons exempt from the licensing requirements of part 30 of this chapter. [Program Code(s): 03254, 03255, 03257] | $8,700
I. Licenses issued under subpart A of part 32 of this chapter to distribute items containing byproduct material or quantities of byproduct material that do not require device evaluation to persons exempt from the licensing requirements of part 30 of this chapter, except for specific licenses authorizing redistribution of items that have been authorized for distribution to persons exempt from the licensing requirements of part 30 of this chapter. [Program Code(s): 03250, 03251, 03253, 03256] | $17,700
J. Licenses issued under subpart B of part 32 of this chapter to distribute items containing byproduct material that require sealed source and/or device review to persons generally licensed under part 31 of this chapter, except specific licenses authorizing redistribution of items that have been authorized for distribution to persons generally licensed under part 31 of this chapter. [Program Code(s): 03240, 03241, 03243] | $3,600
K. Licenses issued under subpart B of part 32 of this chapter to distribute items containing byproduct material or quantities of byproduct material that do not require sealed source and/or device review to persons generally licensed under part 31 of this chapter, except specific licenses authorizing redistribution of items that have been authorized for distribution to persons generally licensed under part 31 of this chapter. [Program Code(s): 03242, 03244] | $2,700
L. Licenses of broad scope for possession and use of byproduct material issued under parts 30 and 33 of this chapter for research and development that do not authorize commercial distribution. Number of locations of use: 1-5. [Program Code(s): 01100, 01110, 01120, 03610, 03611, 03612, 03613] | $12,800
(1) Licenses of broad scope for possession and use of product material issued under parts 30 and 33 of this chapter for research and development that do not authorize commercial distribution. Number of locations of use: 6-20. [Program Code(s): 04610, 04612, 04614, 04616, 04618, 04620, 04622] | $17,000
(2) Licenses of broad scope for possession and use of byproduct material issued under parts 30 and 33 of this chapter for research and development that do not authorize commercial distribution. Number of locations of use: More than 20. [Program Code(s): 04611, 04613, 04615, 04617, 04619, 04621, 04623] | $21,100
M. Other licenses for possession and use of byproduct material issued under part 30 of this chapter for research and development that do not authorize commercial distribution. [Program Code(s): 03620] | $13,600
N. Licenses that authorize services for other licensees, except: (1) Licenses that authorize only calibration and/or leak testing services are subject to the fees specified in fee Category 3.P.; and (2) Licenses that authorize waste disposal services are subject to the fees specified in fee categories 4.A., 4.B., and 4.C.²¹ [Program Code(s): 03219, 03225, 03226] | $15,500
O. Licenses for possession and use of byproduct material issued under part 34 of this chapter for industrial radiography operations. This category also includes the possession and use of source material for shielding authorized under part 40 of this chapter when authorized on the same license Number of locations of use: 1-5. [Program Code(s): 03310, 03320] | $29,700
(1). Licenses for possession and use of byproduct material issued under part 34 of this chapter for industrial radiography operations. This category also includes the possession and use of source material for shielding authorized under part 40 of this chapter when authorized on the same license. Number of locations of use: 6-20. [Program Code(s): 04310, 04312] | $39,500
(2). Licenses for possession and use of byproduct material issued under part 34 of this chapter for industrial radiography operations. This category also includes the possession and use of source material for shielding authorized under part 40 of this chapter when authorized on the same license. Number of locations of use: More than 20. [Program Code(s): 04311, 04313] | $49,500
P. All other specific byproduct material licenses, except those in Categories 4.A. through 9.D.¹⁸ Number of locations of use: 1-5. [Program Code(s): 02400, 02410, 03120, 03121, 03122, 03123, 03124, 03140, 03130, 03220, 03221, 03222, 03800, 03810, 22130] | $9,900
(1). All other specific byproduct material licenses, except those in Categories 4.A. through 9.D.¹⁸ Number of locations of use: 6-20. [Program Code(s): 04410, 04412, 04414, 04416, 04418, 04420, 04422, 04424, 04426, 04428, 04430, 04432, 04434, 04436, 04438] | $13,300
(2). All other specific byproduct material licenses, except those in Categories 4.A. through 9.D.¹⁸ Number of locations of use: More than 20. [Program Code(s): 04411, 04413, 04415, 04417, 04419, 04421, 04423, 04425, 04427, 04429, 04431, 04433, 04435, 04437, 04439] | $16,600
Q. Registration of devices generally licensed under part 31 of this chapter | ¹³ N/A
R. Possession of items or products containing radium-226 identified in § 31.12 of this chapter which exceed the number of items or limits specified in that section: ¹⁴
(1). Possession of quantities exceeding the number of items or limits in § 31.12(a)(4), or (5) of this chapter but less than or equal to 10 times the number of items or limits specified [Program Code(s): 02700] | $6,200
(2). Possession of quantities exceeding 10 times the number of items or limits specified in § 31.12(a)(4) or (5) of this chapter [Program Code(s): 02710] | $6,500
S. Licenses for production of accelerator-produced radionuclides [Program Code(s): 03210] | $24,300
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material. [Program Code(s): 03231, 03233, 03236, 06100, 06101] | $23,100
B. Licenses specifically authorizing the receipt of waste byproduct material, source material, or special nuclear material from other persons for the purpose of packaging or repackaging the material. The licensee will dispose of the material by transfer to another person authorized to receive or dispose of the material. [Program Code(s): 03234] | $16,000
C. Licenses specifically authorizing the receipt of prepackaged waste byproduct material, source material, or special nuclear material from other persons. The licensee will dispose of the material by transfer to another person authorized to receive or dispose of the material. [Program Code(s): 03232] | $8,900
5. Well logging:
A. Licenses for possession and use of byproduct material, source material, and/or special nuclear material for well logging, well surveys, and tracer studies other than field flooding tracer studies. [Program Code(s): 03110, 03111, 03112] | $12,700
B. Licenses for possession and use of byproduct material for field flooding tracer studies. [Program Code(s): 03113] | ⁵ N/A
6. Nuclear laundries:
A. Licenses for commercial collection and laundry of items contaminated with byproduct material, source material, or special nuclear material. [Program Code(s): 03218] | $28,700
7. Medical licenses:
A. Licenses issued under parts 30, 35, 40, and 70 of this chapter for human use of byproduct material, source material, or special nuclear material in sealed sources contained in gamma stereotactic radiosurgery units, teletherapy devices, or similar beam therapy devices. This category also includes the possession and use of source material for shielding when authorized on the same license.⁹ Number of locations of use: 1-5. [Program Code(s): 02300, 02310] | $27,700
(1). Licenses issued under parts 30, 35, 40, and 70 of this chapter for human use of byproduct material, source material, or special nuclear material in sealed sources contained in gamma stereotactic radiosurgery units, teletherapy devices, or similar beam therapy devices. This category also includes the possession and use of source material for shielding when authorized on the same license.⁹ Number of locations of use: 6-20. [Program Code(s): 04510, 04512] | $36,900
(2). Licenses issued under parts 30, 35, 40, and 70 of this chapter for human use of byproduct material, source material, or special nuclear material in sealed sources contained in gamma stereotactic radiosurgery units, teletherapy devices, or similar beam therapy devices. This category also includes the possession and use of source material for shielding when authorized on the same license.⁹ Number of locations of use: More than 20. [Program Code(s): 04511, 04513] | $46,100
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ Number of locations of use: 1-5. [Program Code(s): 02110] | $37,900
(1). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ Number of locations of use: 6-20. [Program Code(s): 04710] | $50,400
(2). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ Number of locations of use: More than 20. [Program Code(s): 04711] | $63,000
C. Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ¹⁹ Number of locations of use: 1-5. [Program Code(s): 02120, 02121, 02200, 02201, 02210, 02220, 02230, 02231, 02240, 22160] | $17,000
(1). Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ¹⁹ Number of locations of use: 6-20. [Program Code(s): 04810, 04812, 04814, 04816, 04818, 04820, 04822, 04824, 04826, 04828] | $17,200
(2). Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ¹⁹ Number of locations of use: More than 20. [Program Code(s): 04811, 04813, 04815, 04817, 04819, 04821, 04823, 04825, 04827, 04829] | $21,400
8. Civil defense:
A. Licenses for possession and use of byproduct material, source material, or special nuclear material for civil defense activities. [Program Code(s): 03710] | $6,200
9. Device, product, or sealed source safety evaluation:
A. Registrations issued for the safety evaluation of devices or products containing byproduct material, source material, or special nuclear material, except reactor fuel devices, for commercial distribution | $18,200
B. Registrations issued for the safety evaluation of devices or products containing byproduct material, source material, or special nuclear material manufactured in accordance with the unique specifications of, and for use by, a single applicant, except reactor fuel devices | $9,400
C. Registrations issued for the safety evaluation of sealed sources containing byproduct material, source material, or special nuclear material, except reactor fuel, for commercial distribution | $5,500
D. Registrations issued for the safety evaluation of sealed sources containing byproduct material, source material, or special nuclear material, manufactured in accordance with the unique specifications of, and for use by, a single applicant, except reactor fuel | $1,100
10. Transportation of radioactive material:
A. Certificates of Compliance or other package approvals issued for design of casks, packages, and shipping containers
1. Spent Fuel, High-Level Waste, and plutonium air packages | ⁶ N/A
2. Other Casks | ⁶ N/A
B. Quality assurance program approvals issued under part 71 of this chapter
1. Users and Fabricators | ⁶ N/A
2. Users | ⁶ N/A
C. Evaluation of security plans, route approvals, route surveys, and transportation security devices (including immobilization devices) | ⁶ N/A
11. Standardized spent fuel facilities | ⁶ N/A
12. Special Projects [Program Code(s): 25110] | ⁶ N/A
13. A. Spent fuel storage cask Certificate of Compliance | ⁶ N/A
B. General licenses for storage of spent fuel under § 72.210 of this chapter | ¹² N/A
14. Decommissioning/Reclamation:
A. Byproduct, source, or special nuclear material licenses and other approvals authorizing decommissioning, decontamination, reclamation, or site restoration activities under parts 30, 40, 70, 72, and 76 of this chapter, including master materials licenses (MMLs). The transition to this fee category occurs when a licensee has permanently ceased principal activities. [Program Code(s): 03900, 11900, 21135, 21215, 21325, 22200] | ⁷ ²⁰ N/A
B. Site-specific decommissioning activities associated with unlicensed sites, including MMLs, whether or not the sites have been previously licensed | ⁷ N/A
15. Import and Export licenses | ⁸ N/A
16. Reciprocity | ⁸ N/A
17. Master materials licenses of broad scope issued to Government agencies.¹⁵ [Program Code(s): 03614] | $346,000
18. Department of Energy:
A. Certificates of Compliance | ¹⁰ $1,659,000
B. Uranium Mill Tailings Radiation Control Act (UMTRCA) activities [Program Code(s): 03237, 03238] | $176,000
¹ Annual fees will be assessed based on whether a licensee held a valid license with the NRC authorizing possession and use of radioactive material during the current FY. The annual fee is waived for those materials licenses and holders of certificates, registrations, and approvals who either filed for termination of their licenses or approvals or filed for possession only/storage licenses before October 1 of the current FY, and permanently ceased licensed activities entirely before this date. Annual fees for licensees who filed for termination of a license, downgrade of a license, or for a possession-only license during the FY and for new licenses issued during the FY will be prorated in accordance with the provisions of § 171.17. If a person holds more than one license, certificate, registration, or approval, the annual fee(s) will be assessed for each license, certificate, registration, or approval held by that person. For licenses that authorize more than one activity on a single license (e.g., human use and irradiator activities), annual fees will be assessed for each category applicable to the license.
² Payment of the prescribed annual fee does not automatically renew the license, certificate, registration, or approval for which the fee is paid. Renewal applications must be filed in accordance with the requirements of part 30, 40, 70, 71, 72, or 76 of this chapter.
³ Each FY, fees for these materials licenses will be calculated and assessed in accordance with § 171.13 and will be published in the Federal Register for notice and comment.
⁴ Other facilities include licenses for extraction of metals, heavy metals, and rare earths.
⁵ There are no existing NRC licenses in these fee categories. If NRC issues a license for these categories, the Commission will consider establishing an annual fee for this type of license.
⁶ Standardized spent fuel facilities, 10 CFR parts 71 and 72 Certificates of Compliance and related Quality Assurance program approvals, and special reviews, such as topical reports, are not assessed an annual fee because the generic costs of regulating these activities are primarily attributable to users of the designs, certificates, and topical reports.
⁷ Licensees in this category are not assessed an annual fee because they are charged an annual fee in other categories while they are licensed to operate.
⁸ No annual fee is charged because it is not practical to administer due to the relatively short life or temporary nature of the license.
⁹ Separate annual fees will not be assessed for pacemaker licenses issued to medical institutions that also hold nuclear medicine licenses under fee categories 7.A, 7.A.1, 7.A.2, 7.B., 7.B.1, 7.B.2, 7.C, 7.C.1, or 7.C.2.
¹⁰ This includes Certificates of Compliance issued to the U.S. Department of Energy that are not funded from the Nuclear Waste Fund.
¹¹ See § 171.15(c).
¹² See § 171.15(c).
¹³ No annual fee is charged for this category because the cost of the general license registration program applicable to licenses in this category will be recovered through 10 CFR part 170 fees.
¹⁴ Persons who possess radium sources that are used for operational purposes in another fee category are not also subject to the fees in this category. (This exception does not apply if the radium sources are possessed for storage only.)
¹⁵ Licensees subject to fees under categories 1.A., 1.B., 1.E., 2.A., and licensees paying fees under fee category 17 must pay the largest applicable fee and are not subject to additional fees listed in this table.
¹⁶ Licensees paying fees under 3.C. are not subject to fees under 2.B. for possession and shielding authorized on the same license.
¹⁷ Licensees paying fees under 7.C. are not subject to fees under 2.B. for possession and shielding authorized on the same license.
¹⁸ Licensees paying fees under 3.N. are not subject to paying fees under 3.P., 3.P.1, or 3.P.2 for calibration or leak testing services authorized on the same license.
¹⁹ Licensees paying fees under 7.B., 7.B.1, or 7.B.2 are not subject to paying fees under 7.C., 7.C.1, or 7.C.2 for broad scope license licenses issued under parts 30, 35, 40, and 70 of this chapter for human use of byproduct material, source material, and/or special nuclear material, except licenses for byproduct material, source material, or special nuclear material in sealed sources contained in teletherapy devices authorized on the same license.
²⁰ No annual fee is charged for a materials license (or part of a materials license) that has transitioned to this fee category because the decommissioning costs will be recovered through 10 CFR part 170 fees, but annual fees may be charged for other activities authorized under the license that are not in decommissioning status.
²¹ Licensees paying fees under 4.A., 4.B. or 4.C. are not subject to paying fees under 3.N. licenses that authorize services for other licensees authorized on the same license.

Dated: February 15, 2022.
For the Nuclear Regulatory Commission.
Cherish K. Johnson,
Chief Financial Officer.

[FR Doc. 2022-03715 Filed 2-18-22; 4:15 pm]

BILLING CODE 7590-01-P